SECURITIES AND EXCHANGE COMMISSION

[File No. 500-1]

Order of Suspension of Trading; In the Matter of 1-800-ATTORNEY, Inc., et al.

May 14, 2012.

It appears to the Securities and Exchange Commission that there is a lack of current and accurate information concerning the securities of 1-800-ATTORNEY, Inc. because questions have arisen as to its operating status, if any. 1-800-ATTORNEY, Inc. is quoted on OTC Link operated by OTC Markets Group, Inc. under the ticker symbol “ATTY.”

It appears to the Securities and Exchange Commission that there is a lack of current and accurate information concerning the securities of Accessible Software Inc. because questions have arisen as to its operating status, if any. Accessible Software Inc. is quoted on OTC Link operated by OTC Markets Group, Inc. under the ticker symbol “ASWE.”

It appears to the Securities and Exchange Commission that there is a lack of current and accurate information concerning the securities of Accom, Inc. because questions have arisen as to its operating status, if any. Accom, Inc. is quoted on OTC Link operated by OTC Markets Group, Inc. under the ticker symbol “ACMM.”

It appears to the Securities and Exchange Commission that there is a lack of current and accurate information concerning the securities of AccuHealth, Inc. because questions have arisen as to its operating status, if any. AccuHealth, Inc. is quoted on OTC Link operated by OTC Markets Group, Inc. under the ticker symbol “AHLHQ.”

It appears to the Securities and Exchange Commission that there is a lack of current and accurate information concerning the securities of Adaptive Solutions, Inc. because questions have arisen as to its operating status, if any. Adaptive Solutions, Inc. is quoted on OTC Link operated by OTC Markets Group, Inc. under the ticker symbol “ADPVQ.”

It appears to the Securities and Exchange Commission that there is a lack of current and accurate information concerning the securities of AHSI, Inc. because questions have arisen as to its operating status, if any. AHSI, Inc. is quoted on OTC Link operated by OTC Markets Group, Inc. under the ticker symbol “AHSI.”

It appears to the Securities and Exchange Commission that there is a lack of current and accurate information concerning the securities of Ainslie Corp. because questions have arisen as to its operating status, if any. Ainslie Corp. is quoted on OTC Link operated by OTC Markets Group, Inc. under the ticker symbol “ANSE.”

It appears to the Securities and Exchange Commission that there is a lack of current and accurate information concerning the securities of American Cattle Co., Inc. because questions have arisen as to its operating status, if any. American Cattle Co., Inc. is quoted on OTC Link operated by OTC Markets Group, Inc. under the ticker symbol “ALCC.”

It appears to the Securities and Exchange Commission that there is a lack of current and accurate information concerning the securities of American Interactive Media, Inc. because questions have arisen as to its operating status, if any. American Interactive Media, Inc. is quoted on OTC Link operated by OTC Markets Group, Inc. under the ticker symbol “AIME.”

It appears to the Securities and Exchange Commission that there is a lack of current and accurate information concerning the securities of AmeriStar International Holdings Corp. because questions have arisen as to its operating status, if any. AmeriStar International Holdings Corp. is quoted on OTC Link operated by OTC Markets Group, Inc. under the ticker symbol “AIHC.”

It appears to the Securities and Exchange Commission that there is a lack of current and accurate information concerning the securities of Angeles Corp. because questions have arisen as to its operating status, if any. Angeles Corp. is quoted on OTC Link operated by OTC Markets Group, Inc. under the ticker symbol “ANGC.”

It appears to the Securities and Exchange Commission that there is a lack of current and accurate information concerning the securities of Aprogenex, Inc. because questions have arisen as to its operating status, if any. Aprogenex, Inc. is quoted on OTC Link operated by OTC Markets Group, Inc. under the ticker symbol “APGX.”

It appears to the Securities and Exchange Commission that there is a lack of current and accurate information concerning the securities of Ardent Communications, Inc. because questions have arisen as to its operating status, if any. Ardent Communications, Inc. is quoted on OTC Link operated by OTC Markets Group, Inc. under the ticker symbol “ARDTQ.”

It appears to the Securities and Exchange Commission that there is a lack of current and accurate information concerning the securities of Asante Technologies, Inc. because questions have arisen as to its operating status, if any. Asante Technologies, Inc. is quoted on OTC Link operated by OTC Markets Group, Inc. under the ticker symbol “ASNL.”

It appears to the Securities and Exchange Commission that there is a lack of current and accurate information concerning the securities of ASFG, Inc. because questions have arisen as to its operating status, if any. ASFG, Inc. is quoted on OTC Link operated by OTC Markets Group, Inc. under the ticker symbol “ASFJ.”

It appears to the Securities and Exchange Commission that there is a lack of current and accurate information concerning the securities of Asia Pacific Engineering Solutions International, Inc. because questions have arisen as to its operating status, if any. Asia Pacific Engineering Solutions International, Inc. is quoted on OTC Link operated by OTC Markets Group, Inc. under the ticker symbol “APCI.”

It appears to the Securities and Exchange Commission that there is a lack of current and accurate information concerning the securities of Atlantic Central Enterprise Ltd. because questions have arisen as to its operating status, if any. Atlantic Central Enterprise Ltd. is quoted on OTC Link operated by OTC Markets Group, Inc. under the ticker symbol “ALCN.”

It appears to the Securities and Exchange Commission that there is a lack of current and accurate information concerning the securities of ATM Capitol Co. because questions have arisen as to its operating status, if any. ATM Capitol Co. is quoted on OTC Link operated by OTC Markets Group, Inc. under the ticker symbol “ATMA.”

It appears to the Securities and Exchange Commission that there is a lack of current and accurate information concerning the securities of Avatex Corp. because questions have arisen as to its operating status, if any. Avatex Corp. is quoted on OTC Link operated by OTC Markets Group, Inc. under the ticker symbol “AVATQ.”

It appears to the Securities and Exchange Commission that there is a lack of current and accurate information concerning the securities of Avisana Corp. because questions have arisen as to its operating status, if any. Avisana Corp. is quoted on OTC Link operated by OTC Markets Group, Inc. under the ticker symbol “AVSA.”

It appears to the Securities and Exchange Commission that there is a lack of current and accurate information concerning the securities of Axtive Corporation because questions have arisen as to its operating status, if any. Axtive Corporation is quoted on OTC Link operated by OTC Markets Group, Inc. under the ticker symbol “AXTC.”

It appears to the Securities and Exchange Commission that there is a lack of current and accurate information concerning the securities of Batterymarch Trust because questions have arisen as to its operating status, if any. Batterymarch Trust is quoted on OTC Link operated by OTC Markets Group, Inc. under the ticker symbol “BTYM.”

It appears to the Securities and Exchange Commission that there is a lack of current and accurate information concerning the securities of Bedford Holdings, Inc. because questions have arisen as to its operating status, if any. Bedford Holdings, Inc. is quoted on OTC Link operated by OTC Markets Group, Inc. under the ticker symbol “BFHI.”

It appears to the Securities and Exchange Commission that there is a lack of current and accurate information concerning the securities of Beijing Logistic, Inc. because questions have arisen as to its operating status, if any. Beijing Logistic, Inc. is quoted on OTC Link operated by OTC Markets Group, Inc. under the ticker symbol “BJGL.”

It appears to the Securities and Exchange Commission that there is a lack of current and accurate information concerning the securities of Belle Isle Corp. because questions have arisen as to its operating status, if any. Belle Isle Corp. is quoted on OTC Link operated by OTC Markets Group, Inc. under the ticker symbol “BILSU.”

It appears to the Securities and Exchange Commission that there is a lack of current and accurate information concerning the securities of Ben Ezra, Weinstein & Co. because questions have arisen as to its operating status, if any. Ben Ezra, Weinstein & Co. is quoted on OTC Link operated by OTC Markets Group, Inc. under the ticker symbol “BNEZ.”

It appears to the Securities and Exchange Commission that there is a lack of current and accurate information concerning the securities of Bestway Coach Express, Inc. because questions have arisen as to its operating status, if any. Bestway Coach Express, Inc. is quoted on OTC Link operated by OTC Markets Group, Inc. under the ticker symbol “BWCX.”

It appears to the Securities and Exchange Commission that there is a lack of current and accurate information concerning the securities of Biomedtex, Inc. because questions have arisen as to its operating status, if any. Biomedtex, Inc. is quoted on OTC Link operated by OTC Markets Group, Inc. under the ticker symbol “BMDX.”

It appears to the Securities and Exchange Commission that there is a lack of current and accurate information concerning the securities of BMJ Medical Management, Inc. because questions have arisen as to its operating status, if any. BMJ Medical Management, Inc. is quoted on OTC Link operated by OTC Markets Group, Inc. under the ticker symbol “BONSQ.”

It appears to the Securities and Exchange Commission that there is a lack of current and accurate information concerning the securities of Bon Coeur, Inc. because questions have arisen as to its operating status, if any. Bon Coeur, Inc. is quoted on OTC Link operated by OTC Markets Group, Inc. under the ticker symbol “BOCU.”

It appears to the Securities and Exchange Commission that there is a lack of current and accurate information concerning the securities of BRIAZZ, Inc. because questions have arisen as to its operating status, if any. BRIAZZ, Inc. is quoted on OTC Link operated by OTC Markets Group, Inc. under the ticker symbol “BRZZQ.”

It appears to the Securities and Exchange Commission that there is a lack of current and accurate information concerning the securities of Buffalo, Inc. because questions have arisen as to its operating status, if any. Buffalo, Inc. is quoted on OTC Link operated by OTC Markets Group, Inc. under the ticker symbol “BUFO.”

It appears to the Securities and Exchange Commission that there is a lack of current and accurate information concerning the securities of Burr Oak Coal Corp. because questions have arisen as to its operating status, if any. Burr Oak Coal Corp. is quoted on OTC Link operated by OTC Markets Group, Inc. under the ticker symbol “BOAK.”

It appears to the Securities and Exchange Commission that there is a lack of current and accurate information concerning the securities of Cabo Group, Ltd. (The) because questions have arisen as to its operating status, if any. Cabo Group, Ltd. (The) is quoted on OTC Link operated by OTC Markets Group, Inc. under the ticker symbol “CGLT.”

It appears to the Securities and Exchange Commission that there is a lack of current and accurate information concerning the securities of CallNOW.com, Inc. because questions have arisen as to its operating status, if any. CallNOW.com, Inc. is quoted on OTC Link operated by OTC Markets Group, Inc. under the ticker symbol “CALN.”

It appears to the Securities and Exchange Commission that there is a lack of current and accurate information concerning the securities of Capital Media Group Ltd. because questions have arisen as to its operating status, if any. Capital Media Group Ltd. is quoted on OTC Link operated by OTC Markets Group, Inc. under the ticker symbol “CPMG.”

It appears to the Securities and Exchange Commission that there is a lack of current and accurate information concerning the securities of Capitol First Corp. because questions have arisen as to its operating status, if any. Capitol First Corp. is quoted on OTC Link operated by OTC Markets Group, Inc. under the ticker symbol “CFCO.”

It appears to the Securities and Exchange Commission that there is a lack of current and accurate information concerning the securities of Cartis, Inc. because questions have arisen as to its operating status, if any. Cartis, Inc. is quoted on OTC Link operated by OTC Markets Group, Inc. under the ticker symbol “CARI.”

It appears to the Securities and Exchange Commission that there is a lack of current and accurate information concerning the securities of CCI Group, Inc. because questions have arisen as to its operating status, if any. CCI Group, Inc. is quoted on OTC Link operated by OTC Markets Group, Inc. under the ticker symbol “CCIG.”

It appears to the Securities and Exchange Commission that there is a lack of current and accurate information concerning the securities of Centra Capital Corp. because questions have arisen as to its operating status, if any. Centra Capital Corp. is quoted on OTC Link operated by OTC Markets Group, Inc. under the ticker symbol “CENC.”

It appears to the Securities and Exchange Commission that there is a lack of current and accurate information concerning the securities of CES International, Inc. because questions have arisen as to its operating status, if any. CES International, Inc. is quoted on OTC Link operated by OTC Markets Group, Inc. under the ticker symbol “CSNL.”

It appears to the Securities and Exchange Commission that there is a lack of current and accurate information concerning the securities of Chambersburg Engineering Co. because questions have arisen as to its operating status, if any. Chambersburg Engineering Co. is quoted on OTC Link operated by OTC Markets Group, Inc. under the ticker symbol “CEGR.”

It appears to the Securities and Exchange Commission that there is a lack of current and accurate information concerning the securities of Chariot Group, Inc. because questions have arisen as to its operating status, if any. Chariot Group, Inc. is quoted on OTC Link operated by OTC Markets Group, Inc. under the ticker symbol “CGRU.”

It appears to the Securities and Exchange Commission that there is a lack of current and accurate information concerning the securities of Chemicorp International, Inc. because questions have arisen as to its operating status, if any. Chemicorp International, Inc. is quoted on OTC Link operated by OTC Markets Group, Inc. under the ticker symbol “CHEM.”

It appears to the Securities and Exchange Commission that there is a lack of current and accurate information concerning the securities of Chemtrak, Inc. because questions have arisen as to its operating status, if any. Chemtrak, Inc. is quoted on OTC Link operated by OTC Markets Group, Inc. under the ticker symbol “CTKI.”

It appears to the Securities and Exchange Commission that there is a lack of current and accurate information concerning the securities of China Cable & Communication, Inc. because questions have arisen as to its operating status, if any. China Cable & Communication, Inc. is quoted on OTC Link operated by OTC Markets Group, Inc. under the ticker symbol “CCCI.”

It appears to the Securities and Exchange Commission that there is a lack of current and accurate information concerning the securities of China TianRen Organic Food, Inc. because questions have arisen as to its operating status, if any. China TianRen Organic Food, Inc. is quoted on OTC Link operated by OTC Markets Group, Inc. under the ticker symbol “CTRI.”

It appears to the Securities and Exchange Commission that there is a lack of current and accurate information concerning the securities of ChinaMallUSA.com, Inc. because questions have arisen as to its operating status, if any. ChinaMallUSA.com, Inc. is quoted on OTC Link operated by OTC Markets Group, Inc. under the ticker symbol “CHML.”

It appears to the Securities and Exchange Commission that there is a lack of current and accurate information concerning the securities of Christian Brothers, Inc. because questions have arisen as to its operating status, if any. Christian Brothers, Inc. is quoted on OTC Link operated by OTC Markets Group, Inc. under the ticker symbol “CHBI.”

It appears to the Securities and Exchange Commission that there is a lack of current and accurate information concerning the securities of Ciao Cucina Corp. because questions have arisen as to its operating status, if any. Ciao Cucina Corp. is quoted on OTC Link operated by OTC Markets Group, Inc. under the ticker symbol “CIAQQ.”

It appears to the Securities and Exchange Commission that there is a lack of current and accurate information concerning the securities of Clarent Corp. because questions have arisen as to its operating status, if any. Clarent Corp. is quoted on OTC Link operated by OTC Markets Group, Inc. under the ticker symbol “CLRN.”

It appears to the Securities and Exchange Commission that there is a lack of current and accurate information concerning the securities of Clinicorp, Inc. because questions have arisen as to its operating status, if any. Clinicorp, Inc. is quoted on OTC Link operated by OTC Markets Group, Inc. under the ticker symbol “CLNI.”

It appears to the Securities and Exchange Commission that there is a lack of current and accurate information concerning the securities of CNF Technologies, Inc. because questions have arisen as to its operating status, if any. CNF Technologies, Inc. is quoted on OTC Link operated by OTC Markets Group, Inc. under the ticker symbol “CNFT.”

It appears to the Securities and Exchange Commission that there is a lack of current and accurate information concerning the securities of Columbia Management Co. because questions have arisen as to its operating status, if any. Columbia Management Co. is quoted on OTC Link operated by OTC Markets Group, Inc. under the ticker symbol “CLMB.”

It appears to the Securities and Exchange Commission that there is a lack of current and accurate information concerning the securities of Columbia Ventures, Inc. because questions have arisen as to its operating status, if any. Columbia Ventures, Inc. is quoted on OTC Link operated by OTC Markets Group, Inc. under the ticker symbol “COVE.”

It appears to the Securities and Exchange Commission that there is a lack of current and accurate information concerning the securities of Commonwealth Oil Refining Co., Inc. because questions have arisen as to its operating status, if any. Commonwealth Oil Refining Co., Inc. is quoted on OTC Link operated by OTC Markets Group, Inc. under the ticker symbol “CWLO.”

It appears to the Securities and Exchange Commission that there is a lack of current and accurate information concerning the securities of Community Medical Transport, Inc. because questions have arisen as to its operating status, if any. Community Medical Transport, Inc. is quoted on OTC Link operated by OTC Markets Group, Inc. under the ticker symbol “CMTI.”

It appears to the Securities and Exchange Commission that there is a lack of current and accurate information concerning the securities of Computer Learning Centers, Inc. because questions have arisen as to its operating status, if any. Computer Learning Centers, Inc. is quoted on OTC Link operated by OTC Markets Group, Inc. under the ticker symbol “CLCXQ.”

It appears to the Securities and Exchange Commission that there is a lack of current and accurate information concerning the securities of Computerized Thermal Imaging, Inc. because questions have arisen as to its operating status, if any. Computerized Thermal Imaging, Inc. is quoted on OTC Link operated by OTC Markets Group, Inc. under the ticker symbol “COIB.”

It appears to the Securities and Exchange Commission that there is a lack of current and accurate information concerning the securities of Condor Technology Solutions, Inc. because questions have arisen as to its operating status, if any. Condor Technology Solutions, Inc. is quoted on OTC Link operated by OTC Markets Group, Inc. under the ticker symbol “CTSI.”

It appears to the Securities and Exchange Commission that there is a lack of current and accurate information concerning the securities of Continental Information Systems Corp. because questions have arisen as to its operating status, if any. Continental Information Systems Corp. is quoted on OTC Link operated by OTC Markets Group, Inc. under the ticker symbol “CISC.”

It appears to the Securities and Exchange Commission that there is a lack of current and accurate information concerning the securities of Conversion Industries, Inc. because questions have arisen as to its operating status, if any. Conversion Industries, Inc. is quoted on OTC Link operated by OTC Markets Group, Inc. under the ticker symbol “CVII.”

It appears to the Securities and Exchange Commission that there is a lack of current and accurate information concerning the securities of Country Maid Financial, Inc. because questions have arisen as to its operating status, if any. Country Maid Financial, Inc. is quoted on OTC Link operated by OTC Markets Group, Inc. under the ticker symbol “CMFI.”

It appears to the Securities and Exchange Commission that there is a lack of current and accurate information concerning the securities of C-Phone Corp. because questions have arisen as to its operating status, if any. C-Phone Corp. is quoted on OTC Link operated by OTC Markets Group, Inc. under the ticker symbol “CFON.”

It appears to the Securities and Exchange Commission that there is a lack of current and accurate information concerning the securities of Cray Computer Corp. because questions have arisen as to its operating status, if any. Cray Computer Corp. is quoted on OTC Link operated by OTC Markets Group, Inc. under the ticker symbol “CRYYQ.”

It appears to the Securities and Exchange Commission that there is a lack of current and accurate information concerning the securities of Creative Gourmet, Inc. because questions have arisen as to its operating status, if any. Creative Gourmet, Inc. is quoted on OTC Link operated by OTC Markets Group, Inc. under the ticker symbol “CGOM.”

It appears to the Securities and Exchange Commission that there is a lack of current and accurate information concerning the securities of Credit Depot Corp. because questions have arisen as to its operating status, if any. Credit Depot Corp. is quoted on OTC Link operated by OTC Markets Group, Inc. under the ticker symbol “CDDJ.”

It appears to the Securities and Exchange Commission that there is a lack of current and accurate information concerning the securities of Crowley Maritime Corp. because questions have arisen as to its operating status, if any. Crowley Maritime Corp. is quoted on OTC Link operated by OTC Markets Group, Inc. under the ticker symbol “CWLM.”

It appears to the Securities and Exchange Commission that there is a lack of current and accurate information concerning the securities of Crowley Milner & Company because questions have arisen as to its operating status, if any. Crowley Milner & Company is quoted on OTC Link operated by OTC Markets Group, Inc. under the ticker symbol “CWYM.”

It appears to the Securities and Exchange Commission that there is a lack of current and accurate information concerning the securities of Crown Andersen Inc. because questions have arisen as to its operating status, if any. Crown Andersen Inc. is quoted on OTC Link operated by OTC Markets Group, Inc. under the ticker symbol “CRAN.”

It appears to the Securities and Exchange Commission that there is a lack of current and accurate information concerning the securities of Crown City Plating Co. because questions have arisen as to its operating status, if any. Crown City Plating Co. is quoted on OTC Link operated by OTC Markets Group, Inc. under the ticker symbol “CCPGQ.”

It appears to the Securities and Exchange Commission that there is a lack of current and accurate information concerning the securities of Crown Financial Holdings, Inc. because questions have arisen as to its operating status, if any. Crown Financial Holdings, Inc. is quoted on OTC Link operated by OTC Markets Group, Inc. under the ticker symbol “CFGI.”

It appears to the Securities and Exchange Commission that there is a lack of current and accurate information concerning the securities of CTI Technology, Inc. because questions have arisen as to its operating status, if any. CTI Technology, Inc. is quoted on OTC Link operated by OTC Markets Group, Inc. under the ticker symbol “CTIT.”

It appears to the Securities and Exchange Commission that there is a lack of current and accurate information concerning the securities of CybeRecord, Inc. because questions have arisen as to its operating status, if any. CybeRecord, Inc. is quoted on OTC Link operated by OTC Markets Group, Inc. under the ticker symbol “CYRD.”

It appears to the Securities and Exchange Commission that there is a lack of current and accurate information concerning the securities of Data Systems of Oregon because questions have arisen as to its operating status, if any. Data Systems of Oregon is quoted on OTC Link operated by OTC Markets Group, Inc. under the ticker symbol “DSTO.”

It appears to the Securities and Exchange Commission that there is a lack of current and accurate information concerning the securities of Datatrend Services, Inc. because questions have arisen as to its operating status, if any. Datatrend Services, Inc. is quoted on OTC Link operated by OTC Markets Group, Inc. under the ticker symbol “DATV.”

It appears to the Securities and Exchange Commission that there is a lack of current and accurate information concerning the securities of Defense Technology Systems, Inc. because questions have arisen as to its operating status, if any. Defense Technology Systems, Inc. is quoted on OTC Link operated by OTC Markets Group, Inc. under the ticker symbol “DFTS.”

It appears to the Securities and Exchange Commission that there is a lack of current and accurate information concerning the securities of Design Media Technology, Inc. because questions have arisen as to its operating status, if any. Design Media Technology, Inc. is quoted on OTC Link operated by OTC Markets Group, Inc. under the ticker symbol “DMTK.”

It appears to the Securities and Exchange Commission that there is a lack of current and accurate information concerning the securities of Digital Armor Inc. because questions have arisen as to its operating status, if any. Digital Armor Inc. is quoted on OTC Link operated by OTC Markets Group, Inc. under the ticker symbol “DTALQ.”

It appears to the Securities and Exchange Commission that there is a lack of current and accurate information concerning the securities of DNA Medical Technologies, Inc. because questions have arisen as to its operating status, if any. DNA Medical Technologies, Inc. is quoted on OTC Link operated by OTC Markets Group, Inc. under the ticker symbol “DNAT.”

It appears to the Securities and Exchange Commission that there is a lack of current and accurate information concerning the securities of dot1Web, Inc. because questions have arisen as to its operating status, if any. Dot1Web, Inc. is quoted on OTC Link operated by OTC Markets Group, Inc. under the ticker symbol “DTWB.”

It appears to the Securities and Exchange Commission that there is a lack of current and accurate information concerning the securities of dotwap.com Holdings Corp. because questions have arisen as to its operating status, if any. Dotwap.com Holdings Corp. is quoted on OTC Link operated by OTC Markets Group, Inc. under the ticker symbol “DWAP.”

It appears to the Securities and Exchange Commission that there is a lack of current and accurate information concerning the securities of DualStar Technologies Corp. because questions have arisen as to its operating status, if any. DualStar Technologies Corp. is quoted on OTC Link operated by OTC Markets Group, Inc. under the ticker symbol “DSTR.”

It appears to the Securities and Exchange Commission that there is a lack of current and accurate information concerning the securities of Duncan Hill Co., Ltd. because questions have arisen as to its operating status, if any. Duncan Hill Co., Ltd. is quoted on OTC Link operated by OTC Markets Group, Inc. under the ticker symbol “DUNC.”

It appears to the Securities and Exchange Commission that there is a lack of current and accurate information concerning the securities of Dunes Hotel & Casinos, Inc. because questions have arisen as to its operating status, if any. Dunes Hotel & Casinos, Inc. is quoted on OTC Link operated by OTC Markets Group, Inc. under the ticker symbol “DUNE.”

It appears to the Securities and Exchange Commission that there is a lack of current and accurate information concerning the securities of Dynamic Leisure Corp. because questions have arisen as to its operating status, if any. Dynamic Leisure Corp. is quoted on OTC Link operated by OTC Markets Group, Inc. under the ticker symbol “DYLI.”

It appears to the Securities and Exchange Commission that there is a lack of current and accurate information concerning the securities of EAC Industries, Inc. because questions have arisen as to its operating status, if any. EAC Industries, Inc. is quoted on OTC Link operated by OTC Markets Group, Inc. under the ticker symbol “EACI.”

It appears to the Securities and Exchange Commission that there is a lack of current and accurate information concerning the securities of Eagle-Picher Industries, Inc. because questions have arisen as to its operating status, if any. Eagle-Picher Industries, Inc. is quoted on OTC Link operated by OTC Markets Group, Inc. under the ticker symbol “EGLP.”

It appears to the Securities and Exchange Commission that there is a lack of current and accurate information concerning the securities of eChapman, Inc. because questions have arisen as to its operating status, if any. eChapman, Inc. is quoted on OTC Link operated by OTC Markets Group, Inc. under the ticker symbol “ECMN.”

It appears to the Securities and Exchange Commission that there is a lack of current and accurate information concerning the securities of EGM International, Inc. because questions have arisen as to its operating status, if any. EGM International, Inc. is quoted on OTC Link operated by OTC Markets Group, Inc. under the ticker symbol “EGML.”

It appears to the Securities and Exchange Commission that there is a lack of current and accurate information concerning the securities of Electro Brain International Corp. because questions have arisen as to its operating status, if any. Electro Brain International Corp. is quoted on OTC Link operated by OTC Markets Group, Inc. under the ticker symbol “EBIC.”

It appears to the Securities and Exchange Commission that there is a lack of current and accurate information concerning the securities of Electronic Transmission Corp. because questions have arisen as to its operating status, if any. Electronic Transmission Corp. is quoted on OTC Link operated by OTC Markets Group, Inc. under the ticker symbol “ETSM.”

It appears to the Securities and Exchange Commission that there is a lack of current and accurate information concerning the securities of Elsinore Corp. because questions have arisen as to its operating status, if any. Elsinore Corp. is quoted on OTC Link operated by OTC Markets Group, Inc. under the ticker symbol “ELSO.”

It appears to the Securities and Exchange Commission that there is a lack of current and accurate information concerning the securities of Emergisoft Holding, Inc. because questions have arisen as to its operating status, if any. Emergisoft Holding, Inc. is quoted on OTC Link operated by OTC Markets Group, Inc. under the ticker symbol “ESHG.”

It appears to the Securities and Exchange Commission that there is a lack of current and accurate information concerning the securities of E-Monee.com, Inc. because questions have arisen as to its operating status, if any. E-Monee.com, Inc. is quoted on OTC Link operated by OTC Markets Group, Inc. under the ticker symbol “EMNC.”

It appears to the Securities and Exchange Commission that there is a lack of current and accurate information concerning the securities of Enerphaze Corp. because questions have arisen as to its operating status, if any. Enerphaze Corp. is quoted on OTC Link operated by OTC Markets Group, Inc. under the ticker symbol “EPHZ.”

It appears to the Securities and Exchange Commission that there is a lack of current and accurate information concerning the securities of Enhance Biotech, Inc. because questions have arisen as to its operating status, if any. Enhance Biotech, Inc. is quoted on OTC Link operated by OTC Markets Group, Inc. under the ticker symbol “EBOI.”

It appears to the Securities and Exchange Commission that there is a lack of current and accurate information concerning the securities of Enviro Global Corp. because questions have arisen as to its operating status, if any. Enviro Global Corp. is quoted on OTC Link operated by OTC Markets Group, Inc. under the ticker symbol “ENVG.”

It appears to the Securities and Exchange Commission that there is a lack of current and accurate information concerning the securities of Environmental Asset Management Inc. because questions have arisen as to its operating status, if any. Environmental Asset Management Inc. is quoted on OTC Link operated by OTC Markets Group, Inc. under the ticker symbol “EVAM.”

It appears to the Securities and Exchange Commission that there is a lack of current and accurate information concerning the securities of ETI International, Inc. because questions have arisen as to its operating status, if any. ETI International, Inc. is quoted on OTC Link operated by OTC Markets Group, Inc. under the ticker symbol “ETIC.”

It appears to the Securities and Exchange Commission that there is a lack of current and accurate information concerning the securities of Excal Enterprises, Inc. because questions have arisen as to its operating status, if any. Excal Enterprises, Inc. is quoted on OTC Link operated by OTC Markets Group, Inc. under the ticker symbol “EXCL.”

It appears to the Securities and Exchange Commission that there is a lack of current and accurate information concerning the securities of Fastlane Footwear, Inc. because questions have arisen as to its operating status, if any. Fastlane Footwear, Inc. is quoted on OTC Link operated by OTC Markets Group, Inc. under the ticker symbol “FSLF.”

It appears to the Securities and Exchange Commission that there is a lack of current and accurate information concerning the securities of Firamada Inc. because questions have arisen as to its operating status, if any. Firamada Inc. is quoted on OTC Link operated by OTC Markets Group, Inc. under the ticker symbol “FAMH.”

It appears to the Securities and Exchange Commission that there is a lack of current and accurate information concerning the securities of Firebrand Financial Group, Inc. because questions have arisen as to its operating status, if any. Firebrand Financial Group, Inc. is quoted on OTC Link operated by OTC Markets Group, Inc. under the ticker symbol “FFGI.”

It appears to the Securities and Exchange Commission that there is a lack of current and accurate information concerning the securities of First Look Media, Inc. because questions have arisen as to its operating status, if any. First Look Media, Inc. is quoted on OTC Link operated by OTC Markets Group, Inc. under the ticker symbol “FRST.”

It appears to the Securities and Exchange Commission that there is a lack of current and accurate information concerning the securities of First Medical Group, Inc. because questions have arisen as to its operating status, if any. First Medical Group, Inc. is quoted on OTC Link operated by OTC Markets Group, Inc. under the ticker symbol “FMDG.”

It appears to the Securities and Exchange Commission that there is a lack of current and accurate information concerning the securities of First Sun South Corp. because questions have arisen as to its operating status, if any. First Sun South Corp. is quoted on OTC Link operated by OTC Markets Group, Inc. under the ticker symbol “FSSU.”

It appears to the Securities and Exchange Commission that there is a lack of current and accurate information concerning the securities of Florida Development Fund (1995), Inc. because questions have arisen as to its operating status, if any. Florida Development Fund (1995), Inc. is quoted on OTC Link operated by OTC Markets Group, Inc. under the ticker symbol “FLDV.”

It appears to the Securities and Exchange Commission that there is a lack of current and accurate information concerning the securities of Florida Partners Corp. because questions have arisen as to its operating status, if any. Florida Partners Corp. is quoted on OTC Link operated by OTC Markets Group, Inc. under the ticker symbol “FPCO.”

It appears to the Securities and Exchange Commission that there is a lack of current and accurate information concerning the securities of Florsheim Group, Inc. (FGI Group, Inc.) because questions have arisen as to its operating status, if any. Florsheim Group, Inc. (FGI Group, Inc.) is quoted on OTC Link operated by OTC Markets Group, Inc. under the ticker symbol “FLSCQ.”

It appears to the Securities and Exchange Commission that there is a lack of current and accurate information concerning the securities of Fone America, Inc. because questions have arisen as to its operating status, if any. Fone America, Inc. is quoted on OTC Link operated by OTC Markets Group, Inc. under the ticker symbol “FONM.”

It appears to the Securities and Exchange Commission that there is a lack of current and accurate information concerning the securities of Fruehauf Trailer Corp. because questions have arisen as to its operating status, if any. Fruehauf Trailer Corp. is quoted on OTC Link operated by OTC Markets Group, Inc. under the ticker symbol “FTCFQ.”

It appears to the Securities and Exchange Commission that there is a lack of current and accurate information concerning the securities of Future Healthcare, Inc. because questions have arisen as to its operating status, if any. Future Healthcare, Inc. is quoted on OTC Link operated by OTC Markets Group, Inc. under the ticker symbol “FHCI.”

It appears to the Securities and Exchange Commission that there is a lack of current and accurate information concerning the securities of Gargoyles, Inc. because questions have arisen as to its operating status, if any. Gargoyles, Inc. is quoted on OTC Link operated by OTC Markets Group, Inc. under the ticker symbol “GOYL.”

It appears to the Securities and Exchange Commission that there is a lack of current and accurate information concerning the securities of General Broadcasting Inc. because questions have arisen as to its operating status, if any. General Broadcasting Inc. is quoted on OTC Link operated by OTC Markets Group, Inc. under the ticker symbol “GNBR.”

It appears to the Securities and Exchange Commission that there is a lack of current and accurate information concerning the securities of General Store International Corp. (The) because questions have arisen as to its operating status, if any. General Store International Corp. (The) is quoted on OTC Link operated by OTC Markets Group, Inc. under the ticker symbol “GSIL.”

It appears to the Securities and Exchange Commission that there is a lack of current and accurate information concerning the securities of Georgia 400 Industries, Inc. because questions have arisen as to its operating status, if any. Georgia 400 Industries, Inc. is quoted on OTC Link operated by OTC Markets Group, Inc. under the ticker symbol “GAID.”

It appears to the Securities and Exchange Commission that there is a lack of current and accurate information concerning the securities of Glengarry Holdings Ltd. because questions have arisen as to its operating status, if any. Glengarry Holdings Ltd. is quoted on OTC Link operated by OTC Markets Group, Inc. under the ticker symbol “GLGH.”

It appears to the Securities and Exchange Commission that there is a lack of current and accurate information concerning the securities of Global iTechnology, Inc. because questions have arisen as to its operating status, if any. Global iTechnology, Inc. is quoted on OTC Link operated by OTC Markets Group, Inc. under the ticker symbol “GITN.”

It appears to the Securities and Exchange Commission that there is a lack of current and accurate information concerning the securities of Global Teledata Corp. because questions have arisen as to its operating status, if any. Global Teledata Corp. is quoted on OTC Link operated by OTC Markets Group, Inc. under the ticker symbol “GDAC.”

It appears to the Securities and Exchange Commission that there is a lack of current and accurate information concerning the securities of Gold Lake Mines, Inc. because questions have arisen as to its operating status, if any. Gold Lake Mines, Inc. is quoted on OTC Link operated by OTC Markets Group, Inc. under the ticker symbol “GOLM.”

It appears to the Securities and Exchange Commission that there is a lack of current and accurate information concerning the securities of Grant Enterprise, Ltd. because questions have arisen as to its operating status, if any. Grant Enterprise, Ltd. is quoted on OTC Link operated by OTC Markets Group, Inc. under the ticker symbol “GRET.”

It appears to the Securities and Exchange Commission that there is a lack of current and accurate information concerning the securities of Great Train Store Co. (The) because questions have arisen as to its operating status, if any. Great Train Store Co. (The) is quoted on OTC Link operated by OTC Markets Group, Inc. under the ticker symbol “GTRNQ.”

It appears to the Securities and Exchange Commission that there is a lack of current and accurate information concerning the securities of Greenleaf Technologies Corp. because questions have arisen as to its operating status, if any. Greenleaf Technologies Corp. is quoted on OTC Link operated by OTC Markets Group, Inc. under the ticker symbol “GLFC.”

It appears to the Securities and Exchange Commission that there is a lack of current and accurate information concerning the securities of GreyStone Digital Technology, Inc. because questions have arisen as to its operating status, if any. GreyStone Digital Technology, Inc. is quoted on OTC Link operated by OTC Markets Group, Inc. under the ticker symbol “GSTN.”

It appears to the Securities and Exchange Commission that there is a lack of current and accurate information concerning the securities of Harriet & Henderson Yarns, Inc. because questions have arisen as to its operating status, if any. Harriet & Henderson Yarns, Inc. is quoted on OTC Link operated by OTC Markets Group, Inc. under the ticker symbol “HHYN.”

It appears to the Securities and Exchange Commission that there is a lack of current and accurate information concerning the securities of Hartz Restaurants International, Inc. because questions have arisen as to its operating status, if any. Hartz Restaurants International, Inc. is quoted on OTC Link operated by OTC Markets Group, Inc. under the ticker symbol “HRII.”

It appears to the Securities and Exchange Commission that there is a lack of current and accurate information concerning the securities of Hayden Hall, Inc. because questions have arisen as to its operating status, if any. Hayden Hall, Inc. is quoted on OTC Link operated by OTC Markets Group, Inc. under the ticker symbol “HYDN.”

It appears to the Securities and Exchange Commission that there is a lack of current and accurate information concerning the securities of HealthRenu Medical, Inc. because questions have arisen as to its operating status, if any. HealthRenu Medical, Inc. is quoted on OTC Link operated by OTC Markets Group, Inc. under the ticker symbol “HRUM”

It appears to the Securities and Exchange Commission that there is a lack of current and accurate information concerning the securities of Helionetics, Inc. because questions have arisen as to its operating status, if any. Helionetics, Inc. is quoted on OTC Link operated by OTC Markets Group, Inc. under the ticker symbol “HLXC.”

It appears to the Securities and Exchange Commission that there is a lack of current and accurate information concerning the securities of Henley Healthcare, Inc. because questions have arisen as to its operating status, if any. Henley Healthcare, Inc. is quoted on OTC Link operated by OTC Markets Group, Inc. under the ticker symbol “HENL.”

It appears to the Securities and Exchange Commission that there is a lack of current and accurate information concerning the securities of Hi-Rise Recycling Systems, Inc. because questions have arisen as to its operating status, if any. Hi-Rise Recycling Systems, Inc. is quoted on OTC Link operated by OTC Markets Group, Inc. under the ticker symbol “HIRI.”

It appears to the Securities and Exchange Commission that there is a lack of current and accurate information concerning the securities of Home Energy Savings Corp. because questions have arisen as to its operating status, if any. Home Energy Savings Corp. is quoted on OTC Link operated by OTC Markets Group, Inc. under the ticker symbol “HESV.”

It appears to the Securities and Exchange Commission that there is a lack of current and accurate information concerning the securities of Home Security International, Inc. because questions have arisen as to its operating status, if any. Home Security International, Inc. is quoted on OTC Link operated by OTC Markets Group, Inc. under the ticker symbol “HMSI.”

It appears to the Securities and Exchange Commission that there is a lack of current and accurate information concerning the securities of Home Solutions Health, Inc. because questions have arisen as to its operating status, if any. Home Solutions Health, Inc. is quoted on OTC Link operated by OTC Markets Group, Inc. under the ticker symbol “HSHL.”

It appears to the Securities and Exchange Commission that there is a lack of current and accurate information concerning the securities of Home State Holdings, Inc. because questions have arisen as to its operating status, if any. Home State Holdings, Inc. is quoted on OTC Link operated by OTC Markets Group, Inc. under the ticker symbol “HOMH.”

It appears to the Securities and Exchange Commission that there is a lack of current and accurate information concerning the securities of HomeGold Financial, Inc. because questions have arisen as to its operating status, if any. HomeGold Financial, Inc. is quoted on OTC Link operated by OTC Markets Group, Inc. under the ticker symbol “HGFNQ.”

It appears to the Securities and Exchange Commission that there is a lack of current and accurate information concerning the securities of Homeland Holding Corp. because questions have arisen as to its operating status, if any. Homeland Holding Corp. is quoted on OTC Link operated by OTC Markets Group, Inc. under the ticker symbol “HMLD.”

It appears to the Securities and Exchange Commission that there is a lack of current and accurate information concerning the securities of Hubco Exploration, Inc. because questions have arisen as to its operating status, if any. Hubco Exploration, Inc. is quoted on OTC Link operated by OTC Markets Group, Inc. under the ticker symbol “HBCE.”

It appears to the Securities and Exchange Commission that there is a lack of current and accurate information concerning the securities of Hungarian Broadcasting Corp. because questions have arisen as to its operating status, if any. Hungarian Broadcasting Corp. is quoted on OTC Link operated by OTC Markets Group, Inc. under the ticker symbol “HBCO.”

It appears to the Securities and Exchange Commission that there is a lack of current and accurate information concerning the securities of Huntco, Inc. because questions have arisen as to its operating status, if any. Huntco, Inc. is quoted on OTC Link operated by OTC Markets Group, Inc. under the ticker symbol “HCOIQ.”

It appears to the Securities and Exchange Commission that there is a lack of current and accurate information concerning the securities of HyperFeed Technologies, Inc. because questions have arisen as to its operating status, if any. HyperFeed Technologies, Inc. is quoted on OTC Link operated by OTC Markets Group, Inc. under the ticker symbol “HYPRQ.”

It appears to the Securities and Exchange Commission that there is a lack of current and accurate information concerning the securities of HyperSecur Corp. because questions have arisen as to its operating status, if any. HyperSecur Corp. is quoted on OTC Link operated by OTC Markets Group, Inc. under the ticker symbol “HYUR.”

It appears to the Securities and Exchange Commission that there is a lack of current and accurate information concerning the securities of iBX Group, Inc. because questions have arisen as to its operating status, if any. iBX Group, Inc. is quoted on OTC Link operated by OTC Markets Group, Inc. under the ticker symbol “IBXG.”

It appears to the Securities and Exchange Commission that there is a lack of current and accurate information concerning the securities of IFS International Holdings, Inc. because questions have arisen as to its operating status, if any. IFS International Holdings, Inc. is quoted on OTC Link operated by OTC Markets Group, Inc. under the ticker symbol “IFSH.”

It appears to the Securities and Exchange Commission that there is a lack of current and accurate information concerning the securities of IGIA, Inc. because questions have arisen as to its operating status, if any. IGIA, Inc. is quoted on OTC Link operated by OTC Markets Group, Inc. under the ticker symbol “IGAI.”

It appears to the Securities and Exchange Commission that there is a lack of current and accurate information concerning the securities of ImageMatrix Corp. because questions have arisen as to its operating status, if any. ImageMatrix Corp. is quoted on OTC Link operated by OTC Markets Group, Inc. under the ticker symbol “IMCX.”

It appears to the Securities and Exchange Commission that there is a lack of current and accurate information concerning the securities of IMC Mortgage Co. because questions have arisen as to its operating status, if any. IMC Mortgage Co. is quoted on OTC Link operated by OTC Markets Group, Inc. under the ticker symbol “IMCC.”

It appears to the Securities and Exchange Commission that there is a lack of current and accurate information concerning the securities of IMP, Inc. because questions have arisen as to its operating status, if any. IMP, Inc. is quoted on OTC Link operated by OTC Markets Group, Inc. under the ticker symbol “IMPX.”

It appears to the Securities and Exchange Commission that there is a lack of current and accurate information concerning the securities of Imperial Credit Industries, Inc. because questions have arisen as to its operating status, if any. Imperial Credit Industries, Inc. is quoted on OTC Link operated by OTC Markets Group, Inc. under the ticker symbol “ICII.”

It appears to the Securities and Exchange Commission that there is a lack of current and accurate information concerning the securities of IMT, Inc. because questions have arisen as to its operating status, if any. IMT, Inc. is quoted on OTC Link operated by OTC Markets Group, Inc. under the ticker symbol “IMIT.”

It appears to the Securities and Exchange Commission that there is a lack of current and accurate information concerning the securities of Inamco International Corp. because questions have arisen as to its operating status, if any. Inamco International Corp. is quoted on OTC Link operated by OTC Markets Group, Inc. under the ticker symbol “IICC.”

It appears to the Securities and Exchange Commission that there is a lack of current and accurate information concerning the securities of Incomnet, Inc. because questions have arisen as to its operating status, if any. Incomnet, Inc. is quoted on OTC Link operated by OTC Markets Group, Inc. under the ticker symbol “ICNT.”

It appears to the Securities and Exchange Commission that there is a lack of current and accurate information concerning the securities of Industrial Imaging Corp. because questions have arisen as to its operating status, if any. Industrial Imaging Corp. is quoted on OTC Link operated by OTC Markets Group, Inc. under the ticker symbol “INIM.”

It appears to the Securities and Exchange Commission that there is a lack of current and accurate information concerning the securities of Industrial Technologies, Inc. because questions have arisen as to its operating status, if any. Industrial Technologies, Inc. is quoted on OTC Link operated by OTC Markets Group, Inc. under the ticker symbol “INTE.”

It appears to the Securities and Exchange Commission that there is a lack of current and accurate information concerning the securities of Innovative Materials, Inc. because questions have arisen as to its operating status, if any. Innovative Materials, Inc. is quoted on OTC Link operated by OTC Markets Group, Inc. under the ticker symbol “INOMA.”

It appears to the Securities and Exchange Commission that there is a lack of current and accurate information concerning the securities of Instruments For Industry, Inc because questions have arisen as to its operating status, if any. Instruments For Industry, Inc is quoted on OTC Link operated by OTC Markets Group, Inc. under the ticker symbol “INSF.”

It appears to the Securities and Exchange Commission that there is a lack of current and accurate information concerning the securities of In-Systcom, Inc. because questions have arisen as to its operating status, if any. In-Systcom, Inc. is quoted on OTC Link operated by OTC Markets Group, Inc. under the ticker symbol “ISYX.”

It appears to the Securities and Exchange Commission that there is a lack of current and accurate information concerning the securities of Integrated Information Systems, Inc. because questions have arisen as to its operating status, if any. Integrated Information Systems, Inc. is quoted on OTC Link operated by OTC Markets Group, Inc. under the ticker symbol “IISX.”

It appears to the Securities and Exchange Commission that there is a lack of current and accurate information concerning the securities of Integrated Services Group, Inc. because questions have arisen as to its operating status, if any. Integrated Services Group, Inc. is quoted on OTC Link operated by OTC Markets Group, Inc. under the ticker symbol “ISVG.”

It appears to the Securities and Exchange Commission that there is a lack of current and accurate information concerning the securities of Integrated Waste Services, Inc. because questions have arisen as to its operating status, if any. Integrated Waste Services, Inc. is quoted on OTC Link operated by OTC Markets Group, Inc. under the ticker symbol “IWSI.”

It appears to the Securities and Exchange Commission that there is a lack of current and accurate information concerning the securities of INTER*ACT Communications, Inc. because questions have arisen as to its operating status, if any. INTER*ACT Communications, Inc. is quoted on OTC Link operated by OTC Markets Group, Inc. under the ticker symbol “IAMM.”

It appears to the Securities and Exchange Commission that there is a lack of current and accurate information concerning the securities of Interactive Media Technologies, Inc. because questions have arisen as to its operating status, if any. Interactive Media Technologies, Inc. is quoted on OTC Link operated by OTC Markets Group, Inc. under the ticker symbol “IMDI.”

It appears to the Securities and Exchange Commission that there is a lack of current and accurate information concerning the securities of Interactive Television Networks, Inc. because questions have arisen as to its operating status, if any. Interactive Television Networks, Inc. is quoted on OTC Link operated by OTC Markets Group, Inc. under the ticker symbol “ITTV.”

It appears to the Securities and Exchange Commission that there is a lack of current and accurate information concerning the securities of Intercontinental Holdings, Inc. because questions have arisen as to its operating status, if any. Intercontinental Holdings, Inc. is quoted on OTC Link operated by OTC Markets Group, Inc. under the ticker symbol “ICLH.”

It appears to the Securities and Exchange Commission that there is a lack of current and accurate information concerning the securities of International Building Concepts Ltd. because questions have arisen as to its operating status, if any. International Building Concepts Ltd. is quoted on OTC Link operated by OTC Markets Group, Inc. under the ticker symbol “IBDG.”

It appears to the Securities and Exchange Commission that there is a lack of current and accurate information concerning the securities of International Capital Equipment, Ltd. because questions have arisen as to its operating status, if any. International Capital Equipment, Ltd. is quoted on OTC Link operated by OTC Markets Group, Inc. under the ticker symbol “ICQLF.”

It appears to the Securities and Exchange Commission that there is a lack of current and accurate information concerning the securities of Interpharm Holdings, Inc. because questions have arisen as to its operating status, if any. Interpharm Holdings, Inc. is quoted on OTC Link operated by OTC Markets Group, Inc. under the ticker symbol “IPAH.”

It appears to the Securities and Exchange Commission that there is a lack of current and accurate information concerning the securities of Interspeed, Inc. because questions have arisen as to its operating status, if any. Interspeed, Inc. is quoted on OTC Link operated by OTC Markets Group, Inc. under the ticker symbol “ISPD.”

It appears to the Securities and Exchange Commission that there is a lack of current and accurate information concerning the securities of InterWorld Corp. because questions have arisen as to its operating status, if any. InterWorld Corp. is quoted on OTC Link operated by OTC Markets Group, Inc. under the ticker symbol “ITWR.”

It appears to the Securities and Exchange Commission that there is a lack of current and accurate information concerning the securities of Intrenet, Inc. because questions have arisen as to its operating status, if any. Intrenet, Inc. is quoted on OTC Link operated by OTC Markets Group, Inc. under the ticker symbol “IRNE.”

It appears to the Securities and Exchange Commission that there is a lack of current and accurate information concerning the securities of IPTV Corp. because questions have arisen as to its operating status, if any. IPTV Corp. is quoted on OTC Link operated by OTC Markets Group, Inc. under the ticker symbol “IPTV.”

It appears to the Securities and Exchange Commission that there is a lack of current and accurate information concerning the securities of Iridium World Communications Ltd. because questions have arisen as to its operating status, if any. Iridium World Communications Ltd. is quoted on OTC Link operated by OTC Markets Group, Inc. under the ticker symbol “IRIDQ.”

It appears to the Securities and Exchange Commission that there is a lack of current and accurate information concerning the securities of Istec-Industries & Technologies, Ltd. because questions have arisen as to its operating status, if any. Istec-Industries & Technologies, Ltd. is quoted on OTC Link operated by OTC Markets Group, Inc. under the ticker symbol “ISEF.”

It appears to the Securities and Exchange Commission that there is a lack of current and accurate information concerning the securities of IT Group Holdings, Inc. because questions have arisen as to its operating status, if any. IT Group Holdings, Inc. is quoted on OTC Link operated by OTC Markets Group, Inc. under the ticker symbol “ITGL.”

It appears to the Securities and Exchange Commission that there is a lack of current and accurate information concerning the securities of J.Rish Group, Inc. (The) because questions have arisen as to its operating status, if any. J.Rish Group, Inc. (The) is quoted on OTC Link operated by OTC Markets Group, Inc. under the ticker symbol “RISH.”

It appears to the Securities and Exchange Commission that there is a lack of current and accurate information concerning the securities of JEC Lasers, Inc. because questions have arisen as to its operating status, if any. JEC Lasers, Inc. is quoted on OTC Link operated by OTC Markets Group, Inc. under the ticker symbol “JECL.”

It appears to the Securities and Exchange Commission that there is a lack of current and accurate information concerning the securities of JPE, Inc. because questions have arisen as to its operating status, if any. JPE, Inc. is quoted on OTC Link operated by OTC Markets Group, Inc. under the ticker symbol “JPEI.”

It appears to the Securities and Exchange Commission that there is a lack of current and accurate information concerning the securities of Kentucky Central Life Insurance Co. because questions have arisen as to its operating status, if any. Kentucky Central Life Insurance Co. is quoted on OTC Link operated by OTC Markets Group, Inc. under the ticker symbol “KENCA.”

It appears to the Securities and Exchange Commission that there is a lack of current and accurate information concerning the securities of Krause's Furniture, Inc. because questions have arisen as to its operating status, if any. Krause's Furniture, Inc. is quoted on OTC Link operated by OTC Markets Group, Inc. under the ticker symbol “KAUSQ.”

It appears to the Securities and Exchange Commission that there is a lack of current and accurate information concerning the securities of Kuala Healthcare, Inc. because questions have arisen as to its operating status, if any. Kuala Healthcare, Inc. is quoted on OTC Link operated by OTC Markets Group, Inc. under the ticker symbol “KUAL.”

It appears to the Securities and Exchange Commission that there is a lack of current and accurate information concerning the securities of L.A. Gear, Inc. because questions have arisen as to its operating status, if any. L.A. Gear, Inc. is quoted on OTC Link operated by OTC Markets Group, Inc. under the ticker symbol “LAGR.”

It appears to the Securities and Exchange Commission that there is a lack of current and accurate information concerning the securities of Lady Baltimore Foods, Inc. because questions have arisen as to its operating status, if any. Lady Baltimore Foods, Inc. is quoted on OTC Link operated by OTC Markets Group, Inc. under the ticker symbol “LDYBA.”

It appears to the Securities and Exchange Commission that there is a lack of current and accurate information concerning the securities of LeaseSmart, Inc. because questions have arisen as to its operating status, if any. LeaseSmart, Inc. is quoted on OTC Link operated by OTC Markets Group, Inc. under the ticker symbol “LSMJ.”

It appears to the Securities and Exchange Commission that there is a lack of current and accurate information concerning the securities of Lexington Healthcare Group Inc. because questions have arisen as to its operating status, if any. Lexington Healthcare Group Inc. is quoted on OTC Link operated by OTC Markets Group, Inc. under the ticker symbol “LEXI.”

It appears to the Securities and Exchange Commission that there is a lack of current and accurate information concerning the securities of Liberate Technologies because questions have arisen as to its operating status, if any. Liberate Technologies is quoted on OTC Link operated by OTC Markets Group, Inc. under the ticker symbol “LBTE.”

It appears to the Securities and Exchange Commission that there is a lack of current and accurate information concerning the securities of Liberty Group Holdings, Inc. because questions have arisen as to its operating status, if any. Liberty Group Holdings, Inc. is quoted on OTC Link operated by OTC Markets Group, Inc. under the ticker symbol “LGHI.”

It appears to the Securities and Exchange Commission that there is a lack of current and accurate information concerning the securities of Liberty International Entertainment, Inc. because questions have arisen as to its operating status, if any. Liberty International Entertainment, Inc. is quoted on OTC Link operated by OTC Markets Group, Inc. under the ticker symbol “LIEI.”

It appears to the Securities and Exchange Commission that there is a lack of current and accurate information concerning the securities of LINC Capital, Inc. because questions have arisen as to its operating status, if any. LINC Capital, Inc. is quoted on OTC Link operated by OTC Markets Group, Inc. under the ticker symbol “LNCC.”

It appears to the Securities and Exchange Commission that there is a lack of current and accurate information concerning the securities of Link Energy, LLC because questions have arisen as to its operating status, if any. Link Energy, LLC is quoted on OTC Link operated by OTC Markets Group, Inc. under the ticker symbol “LNKE.”

It appears to the Securities and Exchange Commission that there is a lack of current and accurate information concerning the securities of LogicalOptions International, Inc. because questions have arisen as to its operating status, if any. LogicalOptions International, Inc. is quoted on OTC Link operated by OTC Markets Group, Inc. under the ticker symbol “LOGO.”

It appears to the Securities and Exchange Commission that there is a lack of current and accurate information concerning the securities of LogiMetrics, Inc. because questions have arisen as to its operating status, if any. LogiMetrics, Inc. is quoted on OTC Link operated by OTC Markets Group, Inc. under the ticker symbol “LGMTA.”

It appears to the Securities and Exchange Commission that there is a lack of current and accurate information concerning the securities of Lois/USA, Inc. because questions have arisen as to its operating status, if any. Lois/USA, Inc. is quoted on OTC Link operated by OTC Markets Group, Inc. under the ticker symbol “LSUS.”

It appears to the Securities and Exchange Commission that there is a lack of current and accurate information concerning the securities of Louisiana Central Oil & Gas Co. because questions have arisen as to its operating status, if any. Louisiana Central Oil & Gas Co. is quoted on OTC Link operated by OTC Markets Group, Inc. under the ticker symbol “LCNTU.”

It appears to the Securities and Exchange Commission that there is a lack of current and accurate information concerning the securities of LoyaltyPoint, Inc. because questions have arisen as to its operating status, if any. LoyaltyPoint, Inc. is quoted on OTC Link operated by OTC Markets Group, Inc. under the ticker symbol “LYLP.”

It appears to the Securities and Exchange Commission that there is a lack of current and accurate information concerning the securities of LTI Technologies, Inc. because questions have arisen as to its operating status, if any. LTI Technologies, Inc. is quoted on OTC Link operated by OTC Markets Group, Inc. under the ticker symbol “LTTI.”

It appears to the Securities and Exchange Commission that there is a lack of current and accurate information concerning the securities of LTWC Corp. because questions have arisen as to its operating status, if any. LTWC Corp. is quoted on OTC Link operated by OTC Markets Group, Inc. under the ticker symbol “LTWC.”

It appears to the Securities and Exchange Commission that there is a lack of current and accurate information concerning the securities of Lucille Farms, Inc. because questions have arisen as to its operating status, if any. Lucille Farms, Inc. is quoted on OTC Link operated by OTC Markets Group, Inc. under the ticker symbol “LUCY.”

It appears to the Securities and Exchange Commission that there is a lack of current and accurate information concerning the securities of M.POS Inc. because questions have arisen as to its operating status, if any. M.POS Inc. is quoted on OTC Link operated by OTC Markets Group, Inc. under the ticker symbol “MPSN.”

It appears to the Securities and Exchange Commission that there is a lack of current and accurate information concerning the securities of Malibu Entertainment Worldwide, Inc. because questions have arisen as to its operating status, if any. Malibu Entertainment Worldwide, Inc. is quoted on OTC Link operated by OTC Markets Group, Inc. under the ticker symbol “MBEW.”

It appears to the Securities and Exchange Commission that there is a lack of current and accurate information concerning the securities of Marine Management Systems, Inc. because questions have arisen as to its operating status, if any. Marine Management Systems, Inc. is quoted on OTC Link operated by OTC Markets Group, Inc. under the ticker symbol “MMSY.”

It appears to the Securities and Exchange Commission that there is a lack of current and accurate information concerning the securities of Marine Sports, Inc. because questions have arisen as to its operating status, if any. Marine Sports, Inc. is quoted on OTC Link operated by OTC Markets Group, Inc. under the ticker symbol “MRSP.”

It appears to the Securities and Exchange Commission that there is a lack of current and accurate information concerning the securities of Marnetics Broadband Technologies Ltd. because questions have arisen as to its operating status, if any. Marnetics Broadband Technologies Ltd. is quoted on OTC Link operated by OTC Markets Group, Inc. under the ticker symbol “MXBTF.”

It appears to the Securities and Exchange Commission that there is a lack of current and accurate information concerning the securities of Master Woodcraft, Inc. because questions have arisen as to its operating status, if any. Master Woodcraft, Inc. is quoted on OTC Link operated by OTC Markets Group, Inc. under the ticker symbol “MCFL.”

It appears to the Securities and Exchange Commission that there is a lack of current and accurate information concerning the securities of Materials Protection Technologies Inc. because questions have arisen as to its operating status, if any. Materials Protection Technologies Inc. is quoted on OTC Link operated by OTC Markets Group, Inc. under the ticker symbol “MTXLF.”

It appears to the Securities and Exchange Commission that there is a lack of current and accurate information concerning the securities of Matrix Denture Systems International, Inc. because questions have arisen as to its operating status, if any. Matrix Denture Systems International, Inc. is quoted on OTC Link operated by OTC Markets Group, Inc. under the ticker symbol “MDSI.”

It appears to the Securities and Exchange Commission that there is a lack of current and accurate information concerning the securities of MaxWorldwide, Inc. because questions have arisen as to its operating status, if any. MaxWorldwide, Inc. is quoted on OTC Link operated by OTC Markets Group, Inc. under the ticker symbol “MAXW.”

It appears to the Securities and Exchange Commission that there is a lack of current and accurate information concerning the securities of Meadowbrook Golf Group Inc. because questions have arisen as to its operating status, if any. Meadowbrook Golf Group Inc. is quoted on OTC Link operated by OTC Markets Group, Inc. under the ticker symbol “MGGI.”

It appears to the Securities and Exchange Commission that there is a lack of current and accurate information concerning the securities of Media 100, Inc. because questions have arisen as to its operating status, if any. Media 100, Inc. is quoted on OTC Link operated by OTC Markets Group, Inc. under the ticker symbol “MDEA.”

It appears to the Securities and Exchange Commission that there is a lack of current and accurate information concerning the securities of Media Logic, Inc. because questions have arisen as to its operating status, if any. Media Logic, Inc. is quoted on OTC Link operated by OTC Markets Group, Inc. under the ticker symbol “MDLG.”

It appears to the Securities and Exchange Commission that there is a lack of current and accurate information concerning the securities of MediaWorx, Inc. because questions have arisen as to its operating status, if any. MediaWorx, Inc. is quoted on OTC Link operated by OTC Markets Group, Inc. under the ticker symbol “MEWX.”

It appears to the Securities and Exchange Commission that there is a lack of current and accurate information concerning the securities of Medical Sciences, Inc. because questions have arisen as to its operating status, if any. Medical Sciences, Inc. is quoted on OTC Link operated by OTC Markets Group, Inc. under the ticker symbol “MCLS.”

It appears to the Securities and Exchange Commission that there is a lack of current and accurate information concerning the securities of Medical Technology Products, Inc. because questions have arisen as to its operating status, if any. Medical Technology Products, Inc. is quoted on OTC Link operated by OTC Markets Group, Inc. under the ticker symbol “MTPX.”

It appears to the Securities and Exchange Commission that there is a lack of current and accurate information concerning the securities of Medra Corp. because questions have arisen as to its operating status, if any. Medra Corp. is quoted on OTC Link operated by OTC Markets Group, Inc. under the ticker symbol “MDRA.”

It appears to the Securities and Exchange Commission that there is a lack of current and accurate information concerning the securities of Mega Group, Inc. because questions have arisen as to its operating status, if any. Mega Group, Inc. is quoted on OTC Link operated by OTC Markets Group, Inc. under the ticker symbol “MGINQ.”

It appears to the Securities and Exchange Commission that there is a lack of current and accurate information concerning the securities of Mellin Industries, Inc. because questions have arisen as to its operating status, if any. Mellin Industries, Inc. is quoted on OTC Link operated by OTC Markets Group, Inc. under the ticker symbol “MELL.”

It appears to the Securities and Exchange Commission that there is a lack of current and accurate information concerning the securities of Meridian Software, Inc. because questions have arisen as to its operating status, if any. Meridian Software, Inc. is quoted on OTC Link operated by OTC Markets Group, Inc. under the ticker symbol “MSWI.”

It appears to the Securities and Exchange Commission that there is a lack of current and accurate information concerning the securities of Merit Studios, Inc. because questions have arisen as to its operating status, if any. Merit Studios, Inc. is quoted on OTC Link operated by OTC Markets Group, Inc. under the ticker symbol “MRITQ.”

It appears to the Securities and Exchange Commission that there is a lack of current and accurate information concerning the securities of Metals Research Group Corp. because questions have arisen as to its operating status, if any. Metals Research Group Corp. is quoted on OTC Link operated by OTC Markets Group, Inc. under the ticker symbol “MLRA.”

It appears to the Securities and Exchange Commission that there is a lack of current and accurate information concerning the securities of Metro Airlines, Inc. because questions have arisen as to its operating status, if any. Metro Airlines, Inc. is quoted on OTC Link operated by OTC Markets Group, Inc. under the ticker symbol “MEAI.”

It appears to the Securities and Exchange Commission that there is a lack of current and accurate information concerning the securities of MidasTrade.com, Inc. because questions have arisen as to its operating status, if any. MidasTrade.com, Inc. is quoted on OTC Link operated by OTC Markets Group, Inc. under the ticker symbol “MIDS.”

It appears to the Securities and Exchange Commission that there is a lack of current and accurate information concerning the securities of MIIX Group, Inc. (The) because questions have arisen as to its operating status, if any. MIIX Group, Inc. (The) is quoted on OTC Link operated by OTC Markets Group, Inc. under the ticker symbol “MIIX.”

It appears to the Securities and Exchange Commission that there is a lack of current and accurate information concerning the securities of Miniscribe Corp. because questions have arisen as to its operating status, if any. Miniscribe Corp. is quoted on OTC Link operated by OTC Markets Group, Inc. under the ticker symbol “MINY.”

It appears to the Securities and Exchange Commission that there is a lack of current and accurate information concerning the securities of Miravant Medical Technologies because questions have arisen as to its operating status, if any. Miravant Medical Technologies is quoted on OTC Link operated by OTC Markets Group, Inc. under the ticker symbol “MRVT.”

It appears to the Securities and Exchange Commission that there is a lack of current and accurate information concerning the securities of Mobile Ready Entertainment Corp. because questions have arisen as to its operating status, if any. Mobile Ready Entertainment Corp. is quoted on OTC Link operated by OTC Markets Group, Inc. under the ticker symbol “MRDY.”

It appears to the Securities and Exchange Commission that there is a lack of current and accurate information concerning the securities of MyGlobalConcierge.com, Inc. because questions have arisen as to its operating status, if any. MyGlobalConcierge.com, Inc. is quoted on OTC Link operated by OTC Markets Group, Inc. under the ticker symbol “MGCG.”

It appears to the Securities and Exchange Commission that there is a lack of current and accurate information concerning the securities of Nahdree Group Ltd. (The). because questions have arisen as to its operating status, if any. Nahdree Group Ltd. (The) is quoted on OTC Link operated by OTC Markets Group, Inc. under the ticker symbol “NDRE.”

It appears to the Securities and Exchange Commission that there is a lack of current and accurate information concerning the securities of National Cable, Inc. because questions have arisen as to its operating status, if any. National Cable, Inc. is quoted on OTC Link operated by OTC Markets Group, Inc. under the ticker symbol “NCAB.”

It appears to the Securities and Exchange Commission that there is a lack of current and accurate information concerning the securities of National Terminals Corp. because questions have arisen as to its operating status, if any. National Terminals Corp. is quoted on OTC Link operated by OTC Markets Group, Inc. under the ticker symbol “NTRM.”

It appears to the Securities and Exchange Commission that there is a lack of current and accurate information concerning the securities of Nelson (L.B.) Corp. because questions have arisen as to its operating status, if any. Nelson (L.B.) Corp. is quoted on OTC Link operated by OTC Markets Group, Inc. under the ticker symbol “NLBC.”

It appears to the Securities and Exchange Commission that there is a lack of current and accurate information concerning the securities of NetImpact Holdings, Inc. because questions have arisen as to its operating status, if any. NetImpact Holdings, Inc. is quoted on OTC Link operated by OTC Markets Group, Inc. under the ticker symbol “NTHD.”

It appears to the Securities and Exchange Commission that there is a lack of current and accurate information concerning the securities of NetObjects, Inc. because questions have arisen as to its operating status, if any. NetObjects, Inc. is quoted on OTC Link operated by OTC Markets Group, Inc. under the ticker symbol “NETO.”

It appears to the Securities and Exchange Commission that there is a lack of current and accurate information concerning the securities of Netplex Group, Inc. (The) because questions have arisen as to its operating status, if any. Netplex Group, Inc. (The) is quoted on OTC Link operated by OTC Markets Group, Inc. under the ticker symbol “NTPL.”

It appears to the Securities and Exchange Commission that there is a lack of current and accurate information concerning the securities of Network Connection, Inc. (The) because questions have arisen as to its operating status, if any. Network Connection, Inc. (The) is quoted on OTC Link operated by OTC Markets Group, Inc. under the ticker symbol “TNCXQ.”

It appears to the Securities and Exchange Commission that there is a lack of current and accurate information concerning the securities of Neuro Bioscience, Inc. because questions have arisen as to its operating status, if any. Neuro Bioscience, Inc. is quoted on OTC Link operated by OTC Markets Group, Inc. under the ticker symbol “NRBO.”

It appears to the Securities and Exchange Commission that there is a lack of current and accurate information concerning the securities of New York & Harlem Railroad Co. because questions have arisen as to its operating status, if any. New York & Harlem Railroad Co. is quoted on OTC Link operated by OTC Markets Group, Inc. under the ticker symbol “NYHA.”

It appears to the Securities and Exchange Commission that there is a lack of current and accurate information concerning the securities of NewGen Technologies, Inc. because questions have arisen as to its operating status, if any. NewGen Technologies, Inc. is quoted on OTC Link operated by OTC Markets Group, Inc. under the ticker symbol “NWGN.”

It appears to the Securities and Exchange Commission that there is a lack of current and accurate information concerning the securities of Next Generation Technolgy Holdings, Inc. because questions have arisen as to its operating status, if any. Next Generation Technology Holdings, Inc. is quoted on OTC Link operated by OTC Markets Group, Inc. under the ticker symbol “NGTHQ.”

It appears to the Securities and Exchange Commission that there is a lack of current and accurate information concerning the securities of Nextrata Energy Inc. because questions have arisen as to its operating status, if any. Nextrata Energy Inc. is quoted on OTC Link operated by OTC Markets Group, Inc. under the ticker symbol “NXTA.”

It appears to the Securities and Exchange Commission that there is a lack of current and accurate information concerning the securities of North American Building, Inc. because questions have arisen as to its operating status, if any. North American Building, Inc. is quoted on OTC Link operated by OTC Markets Group, Inc. under the ticker symbol “NABD.”

It appears to the Securities and Exchange Commission that there is a lack of current and accurate information concerning the securities of Northeast Digital Networks, Inc. because questions have arisen as to its operating status, if any. Northeast Digital Networks, Inc. is quoted on OTC Link operated by OTC Markets Group, Inc. under the ticker symbol “GSMI.”

It appears to the Securities and Exchange Commission that there is a lack of current and accurate information concerning the securities of NorthPoint Communications Group, Inc. because questions have arisen as to its operating status, if any. NorthPoint Communications Group, Inc. is quoted on OTC Link operated by OTC Markets Group, Inc. under the ticker symbol “NPNTQ.”

It appears to the Securities and Exchange Commission that there is a lack of current and accurate information concerning the securities of Nuko Information Systems, Inc. because questions have arisen as to its operating status, if any. Nuko Information Systems, Inc. is quoted on OTC Link operated by OTC Markets Group, Inc. under the ticker symbol “NUKO.”

It appears to the Securities and Exchange Commission that there is a lack of current and accurate information concerning the securities of nVIEW Corp. because questions have arisen as to its operating status, if any. nVIEW Corp. is quoted on OTC Link operated by OTC Markets Group, Inc. under the ticker symbol “NVUE.”

It appears to the Securities and Exchange Commission that there is a lack of current and accurate information concerning the securities of Ocean Power Corp. because questions have arisen as to its operating status, if any. Ocean Power Corp. is quoted on OTC Link operated by OTC Markets Group, Inc. under the ticker symbol “PWREQ.”

It appears to the Securities and Exchange Commission that there is a lack of current and accurate information concerning the securities of Ohmstar Home Lending LLC because questions have arisen as to its operating status, if any. Ohmstar Home Lending LLC is quoted on OTC Link operated by OTC Markets Group, Inc. under the ticker symbol “OMST.”

It appears to the Securities and Exchange Commission that there is a lack of current and accurate information concerning the securities of Omega Ventures Group, Inc. because questions have arisen as to its operating status, if any. Omega Ventures Group, Inc. is quoted on OTC Link operated by OTC Markets Group, Inc. under the ticker symbol “OMGV.”

It appears to the Securities and Exchange Commission that there is a lack of current and accurate information concerning the securities of Omni Multimedia Group, Inc. because questions have arisen as to its operating status, if any. Omni Multimedia Group, Inc. is quoted on OTC Link operated by OTC Markets Group, Inc. under the ticker symbol “OMMG.”

It appears to the Securities and Exchange Commission that there is a lack of current and accurate information concerning the securities of One World Nutrition, Inc. because questions have arisen as to its operating status, if any. One World Nutrition, Inc. is quoted on OTC Link operated by OTC Markets Group, Inc. under the ticker symbol “OWDN.”

It appears to the Securities and Exchange Commission that there is a lack of current and accurate information concerning the securities of Oneita Industries, Inc. because questions have arisen as to its operating status, if any. Oneita Industries, Inc. is quoted on OTC Link operated by OTC Markets Group, Inc. under the ticker symbol “ONTAQ.”

It appears to the Securities and Exchange Commission that there is a lack of current and accurate information concerning the securities of OneLink Corp. because questions have arisen as to its operating status, if any. OneLink Corp. is quoted on OTC Link operated by OTC Markets Group, Inc. under the ticker symbol “OLNK.”

It appears to the Securities and Exchange Commission that there is a lack of current and accurate information concerning the securities of OneSource Technologies, Inc. because questions have arisen as to its operating status, if any. OneSource Technologies, Inc. is quoted on OTC Link operated by OTC Markets Group, Inc. under the ticker symbol “OSRC.”

It appears to the Securities and Exchange Commission that there is a lack of current and accurate information concerning the securities of Open Plan Systems, Inc. because questions have arisen as to its operating status, if any. Open Plan Systems, Inc. is quoted on OTC Link operated by OTC Markets Group, Inc. under the ticker symbol “PLANQ.”

It appears to the Securities and Exchange Commission that there is a lack of current and accurate information concerning the securities of Optomedic Medical Technologies Ltd. because questions have arisen as to its operating status, if any. Optomedic Medical Technologies Ltd. is quoted on OTC Link operated by OTC Markets Group, Inc. under the ticker symbol “KPLNF.”

It appears to the Securities and Exchange Commission that there is a lack of current and accurate information concerning the securities of Oriole Systems, Inc. because questions have arisen as to its operating status, if any. Oriole Systems, Inc. is quoted on OTC Link operated by OTC Markets Group, Inc. under the ticker symbol “ORLSF.”

It appears to the Securities and Exchange Commission that there is a lack of current and accurate information concerning the securities of OTC Wireless, Inc. because questions have arisen as to its operating status, if any. OTC Wireless, Inc. is quoted on OTC Link operated by OTC Markets Group, Inc. under the ticker symbol “OTCL.”

It appears to the Securities and Exchange Commission that there is a lack of current and accurate information concerning the securities of OTR Express, Inc. because questions have arisen as to its operating status, if any. OTR Express, Inc. is quoted on OTC Link operated by OTC Markets Group, Inc. under the ticker symbol “OTRX.”

It appears to the Securities and Exchange Commission that there is a lack of current and accurate information concerning the securities of Panama Coca-Cola Bottling Co., Inc. because questions have arisen as to its operating status, if any. Panama Coca-Cola Bottling Co., Inc. is quoted on OTC Link operated by OTC Markets Group, Inc. under the ticker symbol “PCOK.”

It appears to the Securities and Exchange Commission that there is a lack of current and accurate information concerning the securities of Paper Warehouse, Inc. because questions have arisen as to its operating status, if any. Paper Warehouse, Inc. is quoted on OTC Link operated by OTC Markets Group, Inc. under the ticker symbol “PWHSQ.”

It appears to the Securities and Exchange Commission that there is a lack of current and accurate information concerning the securities of Pentronics Industries, Inc. because questions have arisen as to its operating status, if any. Pentronics Industries, Inc. is quoted on OTC Link operated by OTC Markets Group, Inc. under the ticker symbol “PNTN.”

It appears to the Securities and Exchange Commission that there is a lack of current and accurate information concerning the securities of Phoenix Gold International, Inc. because questions have arisen as to its operating status, if any. Phoenix Gold International, Inc. is quoted on OTC Link operated by OTC Markets Group, Inc. under the ticker symbol “PGLD.”

It appears to the Securities and Exchange Commission that there is a lack of current and accurate information concerning the securities of Pilot Therapeutics Holdings, Inc. because questions have arisen as to its operating status, if any. Pilot Therapeutics Holdings, Inc. is quoted on OTC Link operated by OTC Markets Group, Inc. under the ticker symbol “PLTT.”

It appears to the Securities and Exchange Commission that there is a lack of current and accurate information concerning the securities of Pioneer Commercial Funding Corp. because questions have arisen as to its operating status, if any. Pioneer Commercial Funding Corp. is quoted on OTC Link operated by OTC Markets Group, Inc. under the ticker symbol “PCFC.”

It appears to the Securities and Exchange Commission that there is a lack of current and accurate information concerning the securities of Plastic Recycling, Inc. because questions have arisen as to its operating status, if any. Plastic Recycling, Inc. is quoted on OTC Link operated by OTC Markets Group, Inc. under the ticker symbol “PLTK.”

It appears to the Securities and Exchange Commission that there is a lack of current and accurate information concerning the securities of PlayNet Technologies, Inc. because questions have arisen as to its operating status, if any. PlayNet Technologies, Inc. is quoted on OTC Link operated by OTC Markets Group, Inc. under the ticker symbol “PLYI.”

It appears to the Securities and Exchange Commission that there is a lack of current and accurate information concerning the securities of Pluma, Inc. because questions have arisen as to its operating status, if any. Pluma, Inc. is quoted on OTC Link operated by OTC Markets Group, Inc. under the ticker symbol “PLUAQ.”

It appears to the Securities and Exchange Commission that there is a lack of current and accurate information concerning the securities of PMD Investment Co. because questions have arisen as to its operating status, if any. PMD Investment Co. is quoted on OTC Link operated by OTC Markets Group, Inc. under the ticker symbol “PMDI.”

It appears to the Securities and Exchange Commission that there is a lack of current and accurate information concerning the securities of Portivity, Inc. because questions have arisen as to its operating status, if any. Portivity, Inc. is quoted on OTC Link operated by OTC Markets Group, Inc. under the ticker symbol “BRLS.”

It appears to the Securities and Exchange Commission that there is a lack of current and accurate information concerning the securities of Precision Optics, Inc. because questions have arisen as to its operating status, if any. Precision Optics, Inc. is quoted on OTC Link operated by OTC Markets Group, Inc. under the ticker symbol “PREO.”

It appears to the Securities and Exchange Commission that there is a lack of current and accurate information concerning the securities of Preiss Byron Multimedia, Inc. because questions have arisen as to its operating status, if any. Preiss Byron Multimedia, Inc. is quoted on OTC Link operated by OTC Markets Group, Inc. under the ticker symbol “RSVP.”

It appears to the Securities and Exchange Commission that there is a lack of current and accurate information concerning the securities of Presidion Corp. because questions have arisen as to its operating status, if any. Presidion Corp. is quoted on OTC Link operated by OTC Markets Group, Inc. under the ticker symbol “PSDI.”

It appears to the Securities and Exchange Commission that there is a lack of current and accurate information concerning the securities of Pressure Piping Components, Inc. because questions have arisen as to its operating status, if any. Pressure Piping Components, Inc. is quoted on OTC Link operated by OTC Markets Group, Inc. under the ticker symbol “PPCI.”

It appears to the Securities and Exchange Commission that there is a lack of current and accurate information concerning the securities of Prestige Graphics, Inc. because questions have arisen as to its operating status, if any. Prestige Graphics, Inc. is quoted on OTC Link operated by OTC Markets Group, Inc. under the ticker symbol “PGPI.”

It appears to the Securities and Exchange Commission that there is a lack of current and accurate information concerning the securities of PreventCo, Inc. because questions have arisen as to its operating status, if any. PreventCo, Inc. is quoted on OTC Link operated by OTC Markets Group, Inc. under the ticker symbol “PREV.”

It appears to the Securities and Exchange Commission that there is a lack of current and accurate information concerning the securities of PrimePlayer Incorporated because questions have arisen as to its operating status, if any. PrimePlayer Incorporated is quoted on OTC Link operated by OTC Markets Group, Inc. under the ticker symbol “PPYR.”

It appears to the Securities and Exchange Commission that there is a lack of current and accurate information concerning the securities of Princeton American Corp. because questions have arisen as to its operating status, if any. Princeton American Corp. is quoted on OTC Link operated by OTC Markets Group, Inc. under the ticker symbol “PAMC.”

It appears to the Securities and Exchange Commission that there is a lack of current and accurate information concerning the securities of Princeton Chemical Research, Inc. because questions have arisen as to its operating status, if any. Princeton Chemical Research, Inc. is quoted on OTC Link operated by OTC Markets Group, Inc. under the ticker symbol “PRCH.”

It appears to the Securities and Exchange Commission that there is a lack of current and accurate information concerning the securities of ProMedCo Management Co. because questions have arisen as to its operating status, if any. ProMedCo Management Co. is quoted on OTC Link operated by OTC Markets Group, Inc. under the ticker symbol “PMCOQ.”

It appears to the Securities and Exchange Commission that there is a lack of current and accurate information concerning the securities of Proterion Corporation because questions have arisen as to its operating status, if any. Proterion Corporation is quoted on OTC Link operated by OTC Markets Group, Inc. under the ticker symbol “PROI.”

It appears to the Securities and Exchange Commission that there is a lack of current and accurate information concerning the securities of Public Service Investment & Management Corp. because questions have arisen as to its operating status, if any. Public Service Investment & Management Corp. is quoted on OTC Link operated by OTC Markets Group, Inc. under the ticker symbol “PSIM.”

It appears to the Securities and Exchange Commission that there is a lack of current and accurate information concerning the securities of Publishers Equipment Corp. because questions have arisen as to its operating status, if any. Publishers Equipment Corp. is quoted on OTC Link operated by OTC Markets Group, Inc. under the ticker symbol “PEQU.”

It appears to the Securities and Exchange Commission that there is a lack of current and accurate information concerning the securities of Pure Vanilla eXchange, Inc. because questions have arisen as to its operating status, if any. Pure Vanilla eXchange, Inc. is quoted on OTC Link operated by OTC Markets Group, Inc. under the ticker symbol “PVNX.”

It appears to the Securities and Exchange Commission that there is a lack of current and accurate information concerning the securities of Quality Data Processing, Inc. because questions have arisen as to its operating status, if any. Quality Data Processing, Inc. is quoted on OTC Link operated by OTC Markets Group, Inc. under the ticker symbol “QDTA.”

It appears to the Securities and Exchange Commission that there is a lack of current and accurate information concerning the securities of Radio World Corp. because questions have arisen as to its operating status, if any. Radio World Corp. is quoted on OTC Link operated by OTC Markets Group, Inc. under the ticker symbol “RAWO.”

It appears to the Securities and Exchange Commission that there is a lack of current and accurate information concerning the securities of Receptors, Inc. because questions have arisen as to its operating status, if any. Receptors, Inc. is quoted on OTC Link operated by OTC Markets Group, Inc. under the ticker symbol “RCRS.”

It appears to the Securities and Exchange Commission that there is a lack of current and accurate information concerning the securities of Regent Assisted Living, Inc. because questions have arisen as to its operating status, if any. Regent Assisted Living, Inc. is quoted on OTC Link operated by OTC Markets Group, Inc. under the ticker symbol “RGNT.”

It appears to the Securities and Exchange Commission that there is a lack of current and accurate information concerning the securities of Renaissance Capital Group, Inc. because questions have arisen as to its operating status, if any. Renaissance Capital Group, Inc. is quoted on OTC Link operated by OTC Markets Group, Inc. under the ticker symbol “RNCG.”

It appears to the Securities and Exchange Commission that there is a lack of current and accurate information concerning the securities of Response Oncology, Inc. because questions have arisen as to its operating status, if any. Response Oncology, Inc. is quoted on OTC Link operated by OTC Markets Group, Inc. under the ticker symbol “ROIX.”

It appears to the Securities and Exchange Commission that there is a lack of current and accurate information concerning the securities of Robomatix Technologies Ltd. because questions have arisen as to its operating status, if any. Robomatix Technologies Ltd. is quoted on OTC Link operated by OTC Markets Group, Inc. under the ticker symbol “RBMXF.”

It appears to the Securities and Exchange Commission that there is a lack of current and accurate information concerning the securities of Rodman & Renshaw Capital Group, Inc. because questions have arisen as to its operating status, if any. Rodman & Renshaw Capital Group, Inc. is quoted on OTC Link operated by OTC Markets Group, Inc. under the ticker symbol “RRSHQ.”

It appears to the Securities and Exchange Commission that there is a lack of current and accurate information concerning the securities of Room Plus, Inc. because questions have arisen as to its operating status, if any. Room Plus, Inc. is quoted on OTC Link operated by OTC Markets Group, Inc. under the ticker symbol “PLSSQ.”

It appears to the Securities and Exchange Commission that there is a lack of current and accurate information concerning the securities of Royal Palm Beach Colony, L.P. because questions have arisen as to its operating status, if any. Royal Palm Beach Colony, L.P. is quoted on OTC Link operated by OTC Markets Group, Inc. under the ticker symbol “RPAML.”

It appears to the Securities and Exchange Commission that there is a lack of current and accurate information concerning the securities of R-Tec Holding, Inc. because questions have arisen as to its operating status, if any. R-Tec Holding, Inc. is quoted on OTC Link operated by OTC Markets Group, Inc. under the ticker symbol “RTHG.”

It appears to the Securities and Exchange Commission that there is a lack of current and accurate information concerning the securities of RxBazaar, Inc. because questions have arisen as to its operating status, if any. RxBazaar, Inc. is quoted on OTC Link operated by OTC Markets Group, Inc. under the ticker symbol “RXBZ.”

It appears to the Securities and Exchange Commission that there is a lack of current and accurate information concerning the securities of Sanders Confectionary Products, Inc. because questions have arisen as to its operating status, if any. Sanders Confectionary Products, Inc. is quoted on OTC Link operated by OTC Markets Group, Inc. under the ticker symbol “SDCF.”

It appears to the Securities and Exchange Commission that there is a lack of current and accurate information concerning the securities of Security Asset Capital Corporation because questions have arisen as to its operating status, if any. Security Asset Capital Corporation is quoted on OTC Link operated by OTC Markets Group, Inc. under the ticker symbol “SCYA.”

It appears to the Securities and Exchange Commission that there is a lack of current and accurate information concerning the securities of Seiler Pollution Control Systems, Inc. because questions have arisen as to its operating status, if any. Seiler Pollution Control Systems, Inc. is quoted on OTC Link operated by OTC Markets Group, Inc. under the ticker symbol “SEPE.”

It appears to the Securities and Exchange Commission that there is a lack of current and accurate information concerning the securities of Sequel Technology Corp. because questions have arisen as to its operating status, if any. Sequel Technology Corp. is quoted on OTC Link operated by OTC Markets Group, Inc. under the ticker symbol “SEQL.”

It appears to the Securities and Exchange Commission that there is a lack of current and accurate information concerning the securities of Shallbetter Industries, Inc. because questions have arisen as to its operating status, if any. Shallbetter Industries, Inc. is quoted on OTC Link operated by OTC Markets Group, Inc. under the ticker symbol “SBNS.”

It appears to the Securities and Exchange Commission that there is a lack of current and accurate information concerning the securities of Silverado Foods, Inc. because questions have arisen as to its operating status, if any. Silverado Foods, Inc. is quoted on OTC Link operated by OTC Markets Group, Inc. under the ticker symbol “SVFO.”

It appears to the Securities and Exchange Commission that there is a lack of current and accurate information concerning the securities of Silvercrest Corp. because questions have arisen as to its operating status, if any. Silvercrest Corp. is quoted on OTC Link operated by OTC Markets Group, Inc. under the ticker symbol “SLVI.”

It appears to the Securities and Exchange Commission that there is a lack of current and accurate information concerning the securities of Simmons-Boardman Publishing Corp. because questions have arisen as to its operating status, if any. Simmons-Boardman Publishing Corp. is quoted on OTC Link operated by OTC Markets Group, Inc. under the ticker symbol “SBPG.”

It appears to the Securities and Exchange Commission that there is a lack of current and accurate information concerning the securities of SimPlayer.com Ltd. because questions have arisen as to its operating status, if any. SimPlayer.com Ltd. is quoted on OTC Link operated by OTC Markets Group, Inc. under the ticker symbol “SMPLF.”

It appears to the Securities and Exchange Commission that there is a lack of current and accurate information concerning the securities of SISCOM, Inc. because questions have arisen as to its operating status, if any. SISCOM, Inc. is quoted on OTC Link operated by OTC Markets Group, Inc. under the ticker symbol “SATI.”

It appears to the Securities and Exchange Commission that there is a lack of current and accurate information concerning the securities of SiVault Systems, Inc. because questions have arisen as to its operating status, if any. SiVault Systems, Inc. is quoted on OTC Link operated by OTC Markets Group, Inc. under the ticker symbol “SVTLQ.”

It appears to the Securities and Exchange Commission that there is a lack of current and accurate information concerning the securities of SmarTalk TeleServices, Inc. because questions have arisen as to its operating status, if any. SmarTalk TeleServices, Inc. is quoted on OTC Link operated by OTC Markets Group, Inc. under the ticker symbol “STKTQ.”

It appears to the Securities and Exchange Commission that there is a lack of current and accurate information concerning the securities of Smith Corona Corp. because questions have arisen as to its operating status, if any. Smith Corona Corp. is quoted on OTC Link operated by OTC Markets Group, Inc. under the ticker symbol “SITM.”

It appears to the Securities and Exchange Commission that there is a lack of current and accurate information concerning the securities of Smith Technology Corp. because questions have arisen as to its operating status, if any. Smith Technology Corp. is quoted on OTC Link operated by OTC Markets Group, Inc. under the ticker symbol “SMTQQ.”

It appears to the Securities and Exchange Commission that there is a lack of current and accurate information concerning the securities of SMX Corp. because questions have arisen as to its operating status, if any. SMX Corp. is quoted on OTC Link operated by OTC Markets Group, Inc. under the ticker symbol “SMXP.”

It appears to the Securities and Exchange Commission that there is a lack of current and accurate information concerning the securities of Solo Serve Corp. because questions have arisen as to its operating status, if any. Solo Serve Corp. is quoted on OTC Link operated by OTC Markets Group, Inc. under the ticker symbol “SSVR.”

It appears to the Securities and Exchange Commission that there is a lack of current and accurate information concerning the securities of Speaking Roses International, Inc. because questions have arisen as to its operating status, if any. Speaking Roses International, Inc. is quoted on OTC Link operated by OTC Markets Group, Inc. under the ticker symbol “SRII.”

It appears to the Securities and Exchange Commission that there is a lack of current and accurate information concerning the securities of Specialty Chemical Resources, Inc. because questions have arisen as to its operating status, if any. Specialty Chemical Resources, Inc. is quoted on OTC Link operated by OTC Markets Group, Inc. under the ticker symbol “SCCS.”

It appears to the Securities and Exchange Commission that there is a lack of current and accurate information concerning the securities of Spectrum Oil Corp. because questions have arisen as to its operating status, if any. Spectrum Oil Corp. is quoted on OTC Link operated by OTC Markets Group, Inc. under the ticker symbol “SPOC.”

It appears to the Securities and Exchange Commission that there is a lack of current and accurate information concerning the securities of Spotlight Homes, Inc. because questions have arisen as to its operating status, if any. Spotlight Homes, Inc. is quoted on OTC Link operated by OTC Markets Group, Inc. under the ticker symbol “SPHM.”

It appears to the Securities and Exchange Commission that there is a lack of current and accurate information concerning the securities of Star Entertainment Group, Inc. because questions have arisen as to its operating status, if any. Star Entertainment Group, Inc. is quoted on OTC Link operated by OTC Markets Group, Inc. under the ticker symbol “SREN.”

It appears to the Securities and Exchange Commission that there is a lack of current and accurate information concerning the securities of Stars To Go, Inc. because questions have arisen as to its operating status, if any. Stars To Go, Inc. is quoted on OTC Link operated by OTC Markets Group, Inc. under the ticker symbol “STGO.”

It appears to the Securities and Exchange Commission that there is a lack of current and accurate information concerning the securities of Sterling Business Solutions Inc. because questions have arisen as to its operating status, if any. Sterling Business Solutions Inc. is quoted on OTC Link operated by OTC Markets Group, Inc. under the ticker symbol “STLB.”

It appears to the Securities and Exchange Commission that there is a lack of current and accurate information concerning the securities of Storage Computer Corp. because questions have arisen as to its operating status, if any. Storage Computer Corp. is quoted on OTC Link operated by OTC Markets Group, Inc. under the ticker symbol “SOSO.”

It appears to the Securities and Exchange Commission that there is a lack of current and accurate information concerning the securities of Stratcomm Media Ltd. because questions have arisen as to its operating status, if any. Stratcomm Media Ltd. is quoted on OTC Link operated by OTC Markets Group, Inc. under the ticker symbol “SMMT.”

It appears to the Securities and Exchange Commission that there is a lack of current and accurate information concerning the securities of Summit Life Corporation because questions have arisen as to its operating status, if any. Summit Life Corporation is quoted on OTC Link operated by OTC Markets Group, Inc. under the ticker symbol “SMLF.”

It appears to the Securities and Exchange Commission that there is a lack of current and accurate information concerning the securities of Sundance Homes, Inc. because questions have arisen as to its operating status, if any. Sundance Homes, Inc. is quoted on OTC Link operated by OTC Markets Group, Inc. under the ticker symbol “SDHM.”

It appears to the Securities and Exchange Commission that there is a lack of current and accurate information concerning the securities of Sungroup, Inc. because questions have arisen as to its operating status, if any. Sungroup, Inc. is quoted on OTC Link operated by OTC Markets Group, Inc. under the ticker symbol “SGUP.”

It appears to the Securities and Exchange Commission that there is a lack of current and accurate information concerning the securities of Sunstyle Corp. because questions have arisen as to its operating status, if any. Sunstyle Corp. is quoted on OTC Link operated by OTC Markets Group, Inc. under the ticker symbol “SSCO.”

It appears to the Securities and Exchange Commission that there is a lack of current and accurate information concerning the securities of SVC Financial Services, Inc. because questions have arisen as to its operating status, if any. SVC Financial Services, Inc. is quoted on OTC Link operated by OTC Markets Group, Inc. under the ticker symbol “SVCX.”

It appears to the Securities and Exchange Commission that there is a lack of current and accurate information concerning the securities of Sykes Datatronics, Inc. because questions have arisen as to its operating status, if any. Sykes Datatronics, Inc. is quoted on OTC Link operated by OTC Markets Group, Inc. under the ticker symbol “PSYC.”

It appears to the Securities and Exchange Commission that there is a lack of current and accurate information concerning the securities of TechLite, Inc. because questions have arisen as to its operating status, if any. TechLite, Inc. is quoted on OTC Link operated by OTC Markets Group, Inc. under the ticker symbol “THLT.”

It appears to the Securities and Exchange Commission that there is a lack of current and accurate information concerning the securities of Telcoa International Corp. because questions have arisen as to its operating status, if any. Telcoa International Corp. is quoted on OTC Link operated by OTC Markets Group, Inc. under the ticker symbol “TCOA.”

It appears to the Securities and Exchange Commission that there is a lack of current and accurate information concerning the securities of Teledigital, Inc. because questions have arisen as to its operating status, if any. Teledigital, Inc. is quoted on OTC Link operated by OTC Markets Group, Inc. under the ticker symbol “TLDG.”

It appears to the Securities and Exchange Commission that there is a lack of current and accurate information concerning the securities of Teletrak Environmental Systems, Inc. because questions have arisen as to its operating status, if any. Teletrak Environmental Systems, Inc. is quoted on OTC Link operated by OTC Markets Group, Inc. under the ticker symbol “TAES.”

It appears to the Securities and Exchange Commission that there is a lack of current and accurate information concerning the securities of Tellurian, Inc. because questions have arisen as to its operating status, if any. Tellurian, Inc. is quoted on OTC Link operated by OTC Markets Group, Inc. under the ticker symbol “TLRN.”

It appears to the Securities and Exchange Commission that there is a lack of current and accurate information concerning the securities of TeraForce Technology Corp. because questions have arisen as to its operating status, if any. TeraForce Technology Corp. is quoted on OTC Link operated by OTC Markets Group, Inc. under the ticker symbol “TERA.”

It appears to the Securities and Exchange Commission that there is a lack of current and accurate information concerning the securities of Terminal Applications Group, Inc. because questions have arisen as to its operating status, if any. Terminal Applications Group, Inc. is quoted on OTC Link operated by OTC Markets Group, Inc. under the ticker symbol “TAGI.”

It appears to the Securities and Exchange Commission that there is a lack of current and accurate information concerning the securities of Top Air Manufacturing, Inc. because questions have arisen as to its operating status, if any. Top Air Manufacturing, Inc. is quoted on OTC Link operated by OTC Markets Group, Inc. under the ticker symbol “TPAM.”

It appears to the Securities and Exchange Commission that there is a lack of current and accurate information concerning the securities of Trans World Airlines, Inc. because questions have arisen as to its operating status, if any. Trans World Airlines, Inc. is quoted on OTC Link operated by OTC Markets Group, Inc. under the ticker symbol “TWAIQ.”

It appears to the Securities and Exchange Commission that there is a lack of current and accurate information concerning the securities of Transco Realty Trust because questions have arisen as to its operating status, if any. Transco Realty Trust is quoted on OTC Link operated by OTC Markets Group, Inc. under the ticker symbol “TCRTS.”

It appears to the Securities and Exchange Commission that there is a lack of current and accurate information concerning the securities of Trans-Industries, Inc. because questions have arisen as to its operating status, if any. Trans-Industries, Inc. is quoted on OTC Link operated by OTC Markets Group, Inc. under the ticker symbol “TRNIQ.”

It appears to the Securities and Exchange Commission that there is a lack of current and accurate information concerning the securities of Transportation Components, Inc. because questions have arisen as to its operating status, if any. Transportation Components, Inc. is quoted on OTC Link operated by OTC Markets Group, Inc. under the ticker symbol “TUIC.”

It appears to the Securities and Exchange Commission that there is a lack of current and accurate information concerning the securities of TRISM, Inc. because questions have arisen as to its operating status, if any. TRISM, Inc. is quoted on OTC Link operated by OTC Markets Group, Inc. under the ticker symbol “TSMX.”

It appears to the Securities and Exchange Commission that there is a lack of current and accurate information concerning the securities of TVC Telecom, Inc. because questions have arisen as to its operating status, if any. TVC Telecom, Inc. is quoted on OTC Link operated by OTC Markets Group, Inc. under the ticker symbol “TVCE.”

It appears to the Securities and Exchange Commission that there is a lack of current and accurate information concerning the securities of U.S.A. Floral Products, Inc. because questions have arisen as to its operating status, if any. U.S.A. Floral Products, Inc. is quoted on OTC Link operated by OTC Markets Group, Inc. under the ticker symbol “ROSI.”

It appears to the Securities and Exchange Commission that there is a lack of current and accurate information concerning the securities of UMC Electronics Co. because questions have arisen as to its operating status, if any. UMC Electronics Co. is quoted on OTC Link operated by OTC Markets Group, Inc. under the ticker symbol “UMCE.”

It appears to the Securities and Exchange Commission that there is a lack of current and accurate information concerning the securities of UniCapital Corp. because questions have arisen as to its operating status, if any. UniCapital Corp. is quoted on OTC Link operated by OTC Markets Group, Inc. under the ticker symbol “UCPC.”

It appears to the Securities and Exchange Commission that there is a lack of current and accurate information concerning the securities of Uniglobe.com Inc. because questions have arisen as to its operating status, if any. Uniglobe.com Inc. is quoted on OTC Link operated by OTC Markets Group, Inc. under the ticker symbol “UGTRF.”

It appears to the Securities and Exchange Commission that there is a lack of current and accurate information concerning the securities of UnionFed Financial Corp. because questions have arisen as to its operating status, if any. UnionFed Financial Corp. is quoted on OTC Link operated by OTC Markets Group, Inc. under the ticker symbol “UNFD.”

It appears to the Securities and Exchange Commission that there is a lack of current and accurate information concerning the securities of Unison HealthCare Corp. because questions have arisen as to its operating status, if any. Unison HealthCare Corp. is quoted on OTC Link operated by OTC Markets Group, Inc. under the ticker symbol “UNHC.”

It appears to the Securities and Exchange Commission that there is a lack of current and accurate information concerning the securities of Unitel Video, Inc. because questions have arisen as to its operating status, if any. Unitel Video, Inc. is quoted on OTC Link operated by OTC Markets Group, Inc. under the ticker symbol “UTLV.”

It appears to the Securities and Exchange Commission that there is a lack of current and accurate information concerning the securities of UniverCell Holdings, Inc. because questions have arisen as to its operating status, if any. UniverCell Holdings, Inc. is quoted on OTC Link operated by OTC Markets Group, Inc. under the ticker symbol “UVCL.”

It appears to the Securities and Exchange Commission that there is a lack of current and accurate information concerning the securities of Universal Automotive Industries, Inc. because questions have arisen as to its operating status, if any. Universal Automotive Industries, Inc. is quoted on OTC Link operated by OTC Markets Group, Inc. under the ticker symbol “UVSLQ.”

It appears to the Securities and Exchange Commission that there is a lack of current and accurate information concerning the securities of Value Added Communications, Inc. because questions have arisen as to its operating status, if any. Value Added Communications, Inc. is quoted on OTC Link operated by OTC Markets Group, Inc. under the ticker symbol “VACI.”

It appears to the Securities and Exchange Commission that there is a lack of current and accurate information concerning the securities of VECTRA Technologies, Inc. because questions have arisen as to its operating status, if any. VECTRA Technologies, Inc. is quoted on OTC Link operated by OTC Markets Group, Inc. under the ticker symbol “VCTRQ.”

It appears to the Securities and Exchange Commission that there is a lack of current and accurate information concerning the securities of VIA NET.WORKS, Inc. because questions have arisen as to its operating status, if any. VIA NET.WORKS, Inc. is quoted on OTC Link operated by OTC Markets Group, Inc. under the ticker symbol “VNWI.”

It appears to the Securities and Exchange Commission that there is a lack of current and accurate information concerning the securities of Vie Financial Group, Inc. because questions have arisen as to its operating status, if any. Vie Financial Group, Inc. is quoted on OTC Link operated by OTC Markets Group, Inc. under the ticker symbol “VIFI.”

It appears to the Securities and Exchange Commission that there is a lack of current and accurate information concerning the securities of Viral Response Systems, Inc. because questions have arisen as to its operating status, if any. Viral Response Systems, Inc. is quoted on OTC Link operated by OTC Markets Group, Inc. under the ticker symbol “VRSI.”

It appears to the Securities and Exchange Commission that there is a lack of current and accurate information concerning the securities of Viseon, Inc. because questions have arisen as to its operating status, if any. Viseon, Inc. is quoted on OTC Link operated by OTC Markets Group, Inc. under the ticker symbol “VSNI.”

It appears to the Securities and Exchange Commission that there is a lack of current and accurate information concerning the securities of Visicom International, Inc. because questions have arisen as to its operating status, if any. Visicom International, Inc. is quoted on OTC Link operated by OTC Markets Group, Inc. under the ticker symbol “VSCM.”

It appears to the Securities and Exchange Commission that there is a lack of current and accurate information concerning the securities of Vision Technology Corp. because questions have arisen as to its operating status, if any. Vision Technology Corp. is quoted on OTC Link operated by OTC Markets Group, Inc. under the ticker symbol “VSTCQ.”

It appears to the Securities and Exchange Commission that there is a lack of current and accurate information concerning the securities of Vision Twenty-One, Inc. because questions have arisen as to its operating status, if any. Vision Twenty-One, Inc. is quoted on OTC Link operated by OTC Markets Group, Inc. under the ticker symbol “EYES.”

It appears to the Securities and Exchange Commission that there is a lack of current and accurate information concerning the securities of Vistula Communications Services, Inc. because questions have arisen as to its operating status, if any. Vistula Communications Services, Inc. is quoted on OTC Link operated by OTC Markets Group, Inc. under the ticker symbol “VSTL.”

It appears to the Securities and Exchange Commission that there is a lack of current and accurate information concerning the securities of VR Business Brokers, Inc. because questions have arisen as to its operating status, if any. VR Business Brokers, Inc. is quoted on OTC Link operated by OTC Markets Group, Inc. under the ticker symbol “VRBB.”

It appears to the Securities and Exchange Commission that there is a lack of current and accurate information concerning the securities of Washtenaw Group, Inc. (The) because questions have arisen as to its operating status, if any. Washtenaw Group, Inc. (The) is quoted on OTC Link operated by OTC Markets Group, Inc. under the ticker symbol “TWHR.”

It appears to the Securities and Exchange Commission that there is a lack of current and accurate information concerning the securities of Watchit Media, Inc. because questions have arisen as to its operating status, if any. Watchit Media, Inc. is quoted on OTC Link operated by OTC Markets Group, Inc. under the ticker symbol “WMDA.”

It appears to the Securities and Exchange Commission that there is a lack of current and accurate information concerning the securities of Wavex International Inc. because questions have arisen as to its operating status, if any. Wavex International Inc. is quoted on OTC Link operated by OTC Markets Group, Inc. under the ticker symbol “WVXI.”

It appears to the Securities and Exchange Commission that there is a lack of current and accurate information concerning the securities of Wayne's Famous Phillies, Inc. because questions have arisen as to its operating status, if any. Wayne's Famous Phillies, Inc. is quoted on OTC Link operated by OTC Markets Group, Inc. under the ticker symbol “WFPI.”

It appears to the Securities and Exchange Commission that there is a lack of current and accurate information concerning the securities of West Coast Entertainment Corp. because questions have arisen as to its operating status, if any. West Coast Entertainment Corp. is quoted on OTC Link operated by OTC Markets Group, Inc. under the ticker symbol “WCEC.”

It appears to the Securities and Exchange Commission that there is a lack of current and accurate information concerning the securities of Westbury Metals Group, Inc. because questions have arisen as to its operating status, if any. Westbury Metals Group, Inc. is quoted on OTC Link operated by OTC Markets Group, Inc. under the ticker symbol “WMET.”

It appears to the Securities and Exchange Commission that there is a lack of current and accurate information concerning the securities of Wilshire Technologies, Inc. because questions have arisen as to its operating status, if any. Wilshire Technologies, Inc. is quoted on OTC Link operated by OTC Markets Group, Inc. under the ticker symbol “WILK.”

It appears to the Securities and Exchange Commission that there is a lack of current and accurate information concerning the securities of Winfield Capital Corp. because questions have arisen as to its operating status, if any. Winfield Capital Corp. is quoted on OTC Link operated by OTC Markets Group, Inc. under the ticker symbol “WCAP.”

It appears to the Securities and Exchange Commission that there is a lack of current and accurate information concerning the securities of Wismer-Martin, Inc. because questions have arisen as to its operating status, if any. Wismer-Martin, Inc. is quoted on OTC Link operated by OTC Markets Group, Inc. under the ticker symbol “WSMM.”

It appears to the Securities and Exchange Commission that there is a lack of current and accurate information concerning the securities of Womens Golf Unlimited, Inc. because questions have arisen as to its operating status, if any. Womens Golf Unlimited, Inc. is quoted on OTC Link operated by OTC Markets Group, Inc. under the ticker symbol “WGLF.”

It appears to the Securities and Exchange Commission that there is a lack of current and accurate information concerning the securities of Woodroast Systems, Inc. because questions have arisen as to its operating status, if any. Woodroast Systems, Inc. is quoted on OTC Link operated by OTC Markets Group, Inc. under the ticker symbol “WRSI.”

It appears to the Securities and Exchange Commission that there is a lack of current and accurate information concerning the securities of WorldModal Network Services, Inc. because questions have arisen as to its operating status, if any. WorldModal Network Services, Inc. is quoted on OTC Link operated by OTC Markets Group, Inc. under the ticker symbol “WMDL.”

It appears to the Securities and Exchange Commission that there is a lack of current and accurate information concerning the securities of Worldwide Data, Inc. because questions have arisen as to its operating status, if any. Worldwide Data, Inc. is quoted on OTC Link operated by OTC Markets Group, Inc. under the ticker symbol “WWDI.”

It appears to the Securities and Exchange Commission that there is a lack of current and accurate information concerning the securities of Wright (G.F.) Steel & Wire Co. because questions have arisen as to its operating status, if any. Wright (G.F.) Steel & Wire Co. is quoted on OTC Link operated by OTC Markets Group, Inc. under the ticker symbol “WRGFP.”

It appears to the Securities and Exchange Commission that there is a lack of current and accurate information concerning the securities of Wright (G.F.) Steel & Wire Co. because questions have arisen as to its operating status, if any. Wright (G.F.) Steel & Wire Co. is quoted on OTC Link operated by OTC Markets Group, Inc. under the ticker symbol “WRGF.”

It appears to the Securities and Exchange Commission that there is a lack of current and accurate information concerning the securities of Wright Brothers Energy, Inc. because questions have arisen as to its operating status, if any. Wright Brothers Energy, Inc. is quoted on OTC Link operated by OTC Markets Group, Inc. under the ticker symbol “WOIL.”

It appears to the Securities and Exchange Commission that there is a lack of current and accurate information concerning the securities of XI Tec, Inc. because questions have arisen as to its operating status, if any. XI Tec, Inc. is quoted on OTC Link operated by OTC Markets Group, Inc. under the ticker symbol “XTIC.”

It appears to the Securities and Exchange Commission that there is a lack of current and accurate information concerning the securities of Xpedior, Inc. because questions have arisen as to its operating status, if any. Xpedior, Inc. is quoted on OTC Link operated by OTC Markets Group, Inc. under the ticker symbol “XPDR.”

It appears to the Securities and Exchange Commission that there is a lack of current and accurate information concerning the securities of York Research Corp. because questions have arisen as to its operating status, if any. York Research Corp. is quoted on OTC Link operated by OTC Markets Group, Inc. under the ticker symbol “YORK.”

It appears to the Securities and Exchange Commission that there is a lack of current and accurate information concerning the securities of ZeroPlus.com, Inc. because questions have arisen as to its operating status, if any. ZeroPlus.com, Inc. is quoted on OTC Link operated by OTC Markets Group, Inc. under the ticker symbol “ZPLSQ.”

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 14, 2012 through 11:59 p.m. EDT on May 25, 2012.

By the Commission.
Jill M. Peterson,
Assistant Secretary.

[FR Doc. 2012-11962 Filed 5-14-12; 4:15 pm]

BILLING CODE 8011-01-P